DEPARTMENT OF THE INTERIOR

Fish and Wildlife Service

50 CFR Part 32

[FWS-R9-NSR-2008-0042; 93270-1265-0000-4A]

RIN 1018-AV80

2008-2009 Refuge-Specific Hunting and Sport Fishing Regulations - Modifications

AGENCY: Fish and Wildlife Service, Interior.

ACTION: Proposed rule.

SUMMARY: The Fish and Wildlife Service proposes to implement pertinent refuge-specific regulations and amend other existing refuge-specific regulations that pertain to migratory game bird hunting, upland game hunting, big game hunting, and sport fishing for the 2008-2009 season.

DATES: We will accept comments received or postmarked on before February 12, 2009.

ADDRESSES: You may submit comments by one of the following methods:

• Federal eRulemaking Portal: http://www.regulations.gov. Follow the instructions for submitting comments.

• U.S. mail or hand delivery: Public Comments Processing, Attn: RIN 1018-AV20; Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information). For information on specific refuges' public use programs and the conditions that apply to them or for copies of compatibility determinations for any refuge(s), contact individual programs at the addresses/phone numbers given in “Available Information for Specific Refuges” under SUPPLEMENTARY INFORMATION.

FOR FURTHER INFORMATION CONTACT: Leslie A. Marler, (703) 358-2397; Fax (703) 358-2248.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in Title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Plain Language Mandate

In this proposed rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”.)

Statutory Authority

The National Wildlife Refuge System Administration Act of 1966 (16 U.S.C. 668dd-668ee, as amended by the National Wildlife Refuge System Improvement Act of 1977 [Improvement Act]) (Administration Act) and the Refuge Recreation Act of 1962 (16 U.S.C. 460k-460k-4) (Recreation Act) govern the administration and public use of refuges.

Amendments enacted by the Improvement Act built upon the Administration Act in a manner that provides an “organic act” for the Refuge System similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Amendments to Existing Regulations

This document proposes to codify in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, and 32 to assist hunting and sport fishing visitors with understanding safety and other legal requirements on refuges. This redundancy is deliberate, with the intention of improving safety and compliance in our hunting and sport fishing programs.

We are revising 50 CFR 32.8, “Areas closed to hunting,” by removing the entry dated October 2, 1958, under the States of Iowa, Minnesota, and Wisconsin. On October 24, 2006, we published a comprehensive conservation plan describing habitat and waterfowl use changes in those closed areas and outlined needed location and boundary changes. We further published a final regulation on September 7, 2007 (72 FR 51534), amending hunting and fishing regulations for the Upper Mississippi River National Wildlife and Fish Refuge in the States of Illinois, Iowa, Minnesota, and Wisconsin, which included changes to the system of closed areas, thus making the 1958 entries moot. A copy of the refuge comprehensive conservation plan can be found at www.fws.gov/midwest/planning/uppermiss.

Fish Advisory

For health reasons, anglers should review and follow State-issued consumption advisories before enjoying recreational sport fishing opportunities on Service-managed waters. You can find information about current fish consumption advisories on the internet at: http://www.epa.gov/ost/fish/.

Request for Comments

You may submit comment and materials on this proposed rule by any one of the methods listed in the ADDRESSES section. We will not accept comments sent by e-mail or fax or to an address not listed in the ADDRESSES section. We will not accept anonymous comments; your comment must include your first and last name, city, State, country, and postal (zip) code. Finally, we will not consider hand-delivered comments that we do not receive, or mailed comments that are not postmarked, by the date specified in the DATES section.

We will post your entire comment - including your personal identifying information - on http://www.regulations.gov. If you provide personal identifying information in addition to the required items specified in the previous paragraph, such as your street address, phone number, or e-mail address, you may request at the top of your document that we withhold this information from public review. However, we cannot guarantee that we will be able to do so. We will post all hardcopy comments on http://www.regulations.gov.

Public Comment

Department of the Interior policy is, whenever practicable, to afford the public a meaningful opportunity to participate in the rulemaking process. The process of opening refuges is done in stages, with the fundamental work being performed on the ground at the refuge and in the community where the program is administered. In these stages, the public is given other opportunities to comment, for example, on the comprehensive conservation plans and the compatibility determinations. The second stage is this document, when we publish the proposed rule in the Federal Register for additional comment, commonly for a 30-day comment period.

There is nothing contained in this annual regulation outside the scope of the annual review process where we determine whether individual refuges need modifications, deletions, or additions made to them. We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in recreational activities on a number of refuges. In addition, in order to continue to provide for previously authorized hunting opportunities while at the same time providing for adequate resource protection, we must be timely in providing modifications to certain hunting programs on some refuges.

We considered providing a 60-day, rather than a 30-day, comment period. However, we determined that an additional 30-day delay in processing these refuge-specific hunting and sport fishing regulations would hinder the effective planning and administration of our hunting and sport fishing programs. Such a delay would jeopardize enacting amendments to hunting and sport fishing programs in time for implementation this year and/or early next year, or shorten their duration.

Even after issuance of a final rule, we accept comments, suggestions, and concerns for consideration for any appropriate subsequent rulemaking.

When finalized, we will incorporate these regulations into 50 CFR part 32. Part 32 contains general provisions and refuge-specific regulations for hunting and sport fishing on refuges.

Clarity of This Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESES section. To better help us revise the rule, your comments should be a specific as possible. For example, you should tell us the numbers of the sections or paragraphs that are unclearly written, which sections or sentences are too long, the sections where you feel lists or tables would be useful, etc.

Regulatory Planning and Review

The Office of Management and Budget (OMB) has determined that this rule is not significant under Executive Order 12866 (E.O. 12866). OMB bases its determination on the following four criteria:

(a) Whether the rule will have an annual effect of $100 million or more on the economy or adversely affect an economic sector, productivity, jobs, the environment, or other units of the government.

(b) Whether the rule will create inconsistencies with other Federal agencies' actions.

(c) Whether the rule will materially affect entitlements, grants, use fees, loan programs, or the rights and obligations of their recipients.

(d) Whether the rule raises novel legal or policy issues.

Regulatory Flexibility Act

Under the Regulatory Flexibility Act (as amended by the Small Business Regulatory Enforcement Fairness Act [SBREFA] of 1996) (5 U.S.C. 601, et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for ‘‘significant impact'' and a threshold for a ‘‘substantial number of small entities.'' See 5 U.S.C. 605(b). SBREFA amended the Regulatory Flexibility Act to require Federal agencies to provide a statement of the factual basis for certifying that a rule would not have a significant economic impact on a substantial number of small entities.

This proposed rule does not increase the number of recreation types allowed on the System nor does it establish new hunting or fishing programs on national wildlife refuges. Instead, this proposed rule makes administrative changes, provides clarification, and makes minor changes to recreational opportunities on a number of national wildlife refuges. As a result, visitor use for wildlife-dependent recreation on national wildlife refuges may change. The changes are likely to minimally impact visitor activity on these national wildlife refuges. We do not expect an impact to overall visitor use days due to changes on individual refuges such as requiring the dismantling of all firearms when transporting, the use of safety belts in tree stands, or reporting accidents involving property damage. There may be minor decreases in visitor use due to modifications such as individual refuges prohibiting the use of permanent structures, prohibiting marking of trees, or prohibiting hunting with bait. We would expect only a minor change, if any, in visitor use. If visitor use does decrease marginally, we would expect these visitors to go to a substitute site for the activity and not necessarily result in an overall decrease in participation rates for the activity.

Small businesses within the retail trade industry (such as hotels, gas stations, taxidermy shops, bait and tackle shops, etc.) may be impacted from some decreased refuge visitation. A large percentage of these retail trade establishments in the local communities around national wildlife refuges qualify as small businesses. We expect that the incremental recreational changes will be scattered, and so we do not expect that the rule will have a significant economic effect on a substantial number of small entities in any region or nationally.

With the small change in overall spending anticipated from this proposed rule, it is unlikely that a substantial number of small entities will have more than a small impact from the spending change near the affected refuges. Therefore, we certify that this proposed rule will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The minimal impact would be scattered across the country and would most likely not be significant in any local area.

b. Would not cause a major increase in costs or prices for consumers, individual industries, Federal, State, or local government agencies, or geographic regions. This proposed rule would have only a slight effect on the costs of hunting and fishing opportunities for Americans. If the substitute sites are farther from the participants' residences, then an increase in travel costs would occur. The Service does not have information to quantify this change in travel cost but assumes that, since most people travel less than 100 miles to hunt and fish, the increased travel cost would be small. We do not expect this proposed rule to affect the supply or demand for fishing and hunting opportunities in the United States and, therefore, it should not affect prices for fishing and hunting equipment and supplies, or the retailers that sell equipment.

c. Would not have significant adverse effects on competition, employment, investment, productivity, innovation, or the ability of United States-based enterprises to compete with foreign-based enterprises. This proposed rule represents only a small proportion of recreational spending at national wildlife refuges. Therefore, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This regulation would affect only visitors at national wildlife refuges and describe what they can do while they are on a refuge.

Federalism (E.O. 13132)

As discussed in the Regulatory Planning and Review and Unfunded Mandates Reform Act sections above, this proposed rule would not have sufficient Federalism implications to warrant the preparation of a Federalism Assessment under E.O. 13132. In preparing this proposed rule, we worked with State governments.

Civil Justice Reform (E.O. 12988)

In accordance with E.O. 12988, the Office of the Solicitor has determined that the proposed rule would not unduly burden the judicial system and that it meets the requirements of sections 3(a) and 3(b)(2) of the Order. The regulation would clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this proposed rule would make only minor changes to refuges open to hunting and fishing, it is not a significant regulatory action under E.O. 12866 and is not expected to significantly affect energy supplies, distribution, and use. Therefore, this action is a not a significant energy action and no Statement of Energy Effects is required.

Consultation and Coordination with Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Number is 1018-0102). See 50 CFR 25.23 for information concerning that approval. An agency may not conduct or sponsor and a person is not required to respond to a collection of information unless it displays a currently valid OMB control number. We are seeking further OMB approval for other necessary information collection.

Endangered Species Act Section 7 Consultation

We comply with Section 7 of the ESA when developing Comprehensive Conservation Plans (CCPs) and step-down management plans (which would include hunting and/or fishing plans) for public use of refuges, and prior to implementing any new or revised public recreation program on a refuge as identified in 50 CFR 26.32.

National Environmental Policy Act

We analyzed this proposed rule in accordance with the criteria of the National Environmental Policy Act of 1969 (NEPA) (42 U.S.C. 4332(C)) and 516 Departmental Manual (DM) 6, Appendix 1. This proposed rule does not constitute a major Federal action significantly affecting the quality of the human environment. An environmental impact statement/assessment is not required.

A categorical exclusion from NEPA documentation applies to publication of proposed amendments to refuge-specific hunting and fishing regulations since it is technical and procedural in nature, and the environmental effects are too broad, speculative, or conjectural to lend themselves to meaningful analysis (516 DM 2, Appendix 1.10). Concerning the actions that are the subject of this proposed rulemaking, NEPA has been complied with at the project level where each proposal was developed. This is consistent with the Department of the Interior instructions for compliance with NEPA where actions are covered sufficiently by an earlier environmental document (516 DM 3.2A).

Prior to the addition of a refuge to the list of areas open to hunting and fishing in 50 CFR part 32, we develop hunting and fishing plans for the affected refuges. We incorporate these proposed refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters retain information regarding public use programs and conditions that apply to their specific programs and maps of their respective areas. If the specific refuge you are interested in is not mentioned below, then contact the appropriate Regional offices listed below:

Region 1—Hawaii, Idaho, Oregon, and Washington. Regional Chief, National Wildlife Refuge System, U.S. Fish and Wildlife Service, Eastside Federal Complex, Suite 1692, 911 N.E. 11th Avenue, Portland, Oregon 97232-4181; Telephone (503) 231-6214.

Region 2—Arizona, New Mexico, Oklahoma, and Texas. Regional Chief, National Wildlife Refuge System, U.S. Fish and Wildlife Service, Box 1306, 500 Gold Avenue, Albuquerque, New Mexico 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, Minnesota 55111; Telephone (612) 713-5401.

Region 4—Alabama, Arkansas, Florida, Georgia, Kentucky, Louisiana, Mississippi, North Carolina, Tennessee, South Carolina, Puerto Rico, and the Virgin Islands. Regional Chief, National Wildlife Refuge System, U.S. Fish and Wildlife Service, 1875 Century Boulevard, Atlanta, Georgia 30345; Telephone (404) 679-7166.

Region 5—Connecticut, Delaware, District of Columbia, Maine, Maryland, Massachusetts, New Hampshire, New Jersey, New York, Pennsylvania, Rhode Island, Vermont, Virginia and West Virginia. Regional Chief, National Wildlife Refuge System, U.S. Fish and Wildlife Service, 300 Westgate Center Drive, Hadley, Massachusetts 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3545.

Region 8—California and Nevada. Regional Chief, National Wildlife Refuge System, U.S. Fish and Wildlife Service, 2800 Cottage Way, Room W-2606, Sacramento, California 95825; Telephone (916) 414-6464.

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

For the reasons set forth in the preamble, we propose to amend title 50, Chapter I, subchapter C of the Code of Federal Regulations as follows:

PART 32-[AMENDED]

1. The authority citation for part 32 continues to read as follows:

Authority: 5 U.S.C. 301; 16 U.S.C. 460k, 664, 668dd-668ee, and 715i.

2. Amend §32.8, “Areas closed to hunting.”, by removing the entries dated “October 2, 1958,” under the States of Iowa, Minnesota, and Wisconsin.

3. Amend §32.20 Alabama by:

a. Adding paragraphs B.6., B.7., and B.8., removing paragraph C.3., redesignating paragraphs C.4. through C.7. as paragraphs C.3. through C.6., revising newly redesignated paragraph C.6, and adding paragraphs C.7. and C.8. of Cahaba River National Wildlife Refuge;

b. Adding paragraph B.11., revising paragraph C.1., removing paragraphs C.4., C.6., and C.7., and redesignating paragraph C.5. as paragraph C.4. of Choctaw National Wildlife Refuge;

c. Revising paragraph A.3., adding paragraph B.6., and revising paragraph C.6. of Eufaula National Wildlife Refuge; and

d. Revising paragraphs A., B.1., and C.1. and adding paragraphs C.4. and C.5. of Mountain Longleaf National Wildlife Refuge to read as follows:

§ 32.20 Alabama.

* * * * *

Cahaba River National Wildlife Refuge

* * * * *

B. Upland Game Hunting. * * *

* * * * *

6. All youth hunters age 15 and younger must remain within sight and normal voice contact of an adult age 21 or older, possessing a valid hunting license. Youth hunters must have passed a State-approved hunter education course. One adult may supervise no more than two youths.

7. Hunters must unload and dismantle or encase all firearms before placing them in a vehicle (see §27.42(b) of this chapter).

8. We prohibit marking trees and the use of flagging tape, reflective tacks, and other similar marking devices (see §32.2(i)).

C. Big Game Hunting. * * *

6. Conditions B2, B3, and B8 apply.

7. All youth hunters age 15 and younger must remain within sight and normal voice contact of an adult age 21 or older, possessing a valid hunting license. Youth hunters must have passed a State-approved hunter education course. One adult may supervise no more than one youth.

8. We prohibit participation in organized drives.

* * * * *

Choctaw National Wildlife Refuge

* * * * *

B. Upland Game Hunting. * * *

* * * * *

11. We prohibit the use of mules, horses, and ATVs on all refuge hunts.

C. Big Game Hunting. * * *

1. Conditions B1 through B8 and B11 apply.

* * * * *

Eufaula National Wildlife Refuge

A. Migratory Game Bird Hunting. * * *

* * * * *

3. We allow goose and duck hunting by permit only in the Kennedy and Bradley Units on selected days until 12 p.m. (noon) during State waterfowl seasons. We close all other areas within the refuge to waterfowl hunting.

* * * * *

B. Upland Game Hunting. * * *

* * * * *

6. You may possess only approved nontoxic shotshells while in the field (see §32.2(k)).

C. Big Game Hunting. * * *

* * * * *

6. We prohibit damaging trees or hunting from a tree that contains an inserted metal object (see §32.2(i)). Hunters must remove tree stands from the refuge each day (see §27.93 of this chapter).

* * * * *

Mountain Longleaf National Wildlife Refuge

A. Migratory Game Bird Hunting.

We allow hunting of woodcock on designated areas of the refuge in accordance with State regulations subject to the following conditions:

1. You must possess and carry a signed refuge hunt permit while hunting.

2. Hunters must unload and dismantle or encase all firearms before placing them in a vehicle (see §27.42(b) of this chapter).

3. We prohibit marking trees and the use of flagging tape, reflective tacks, and other similar marking devices (see §27.61 of this chapter).

4. All youth hunters age 15 and younger must remain within sight and normal voice contact of an adult age 21 or older, possessing a valid hunting license. Youth hunters must have passed a State-approved hunter education course. One adult may supervise no more than two youths.

5. We prohibit the use of horses, mules, and ATVs on all refuge hunts.

B. Upland Game Hunting. * * *

1. Conditions A1 through A5 apply.

* * * * *

C. Big Game Hunting. * * *

1. Conditions A1 through A3 and A5 apply.

* * * * *

4. All youth hunters age 15 and younger must remain within sight and normal voice contact of an adult age 21 or older, possessing a valid State hunting license. Youth hunters must have passed a State-approved hunter education course. One adult may supervise no more than one youth.

5. We require tree stand users to use a safety belt or harness.

* * * * *

4. Amend §32.22 Arizona by revising paragraph A.1., adding paragraphs A.8 through A.11., revising paragraphs B.1., C.1., and C.2., and adding paragraph D.5. of Bill Williams National Wildlife Refuge to read as follows:

§ 32.22 Arizona.

* * * * *

Bill Williams National Wildlife Refuge

A. Migratory Game Bird Hunting. * * *

1. We allow only shotguns for hunting. We limit all shotguns to a maximum three-shell capacity, unless it is plugged with a one-piece filler, incapable of removal without disassembling the gun, so its total capacity does not exceed three shells (see §20.21(b) of this chapter).

* * * * *

8. Anyone for hire to assist or guide a hunter or angler must first obtain, possess, and carry a valid Special Use Permit issued by the refuge manager.

9. We prohibit the construction or use of any pits, permanent blinds, or other structures (see §27.92 of this chapter).

10. Hunters must remove all personal items from the refuge at the end of each day's activity, i.e., boats, equipment, cameras, temporary blinds, stands, etc. (see §27.93 of this chapter).

11. Hunters must report accidents involving property damage or personal injury to the refuge manager or authorized Service personnel (see §25.72 of this chapter).

B. Upland Game Hunting. * * *

1. Conditions A1 through A11 apply.

* * * * *

C. Big Game Hunting. * * *

1. Conditions A3 and A5 through A11 apply.

2. We only allow hunting on the refuge in those areas south of the Bill Williams River Road and east of Arizona State Rt. 95 plus the south half of Section 35, T.11N, R 17W as posted. Exceptions: Arizona Wildlife Management Areas 16A and 44A.

D. Sport Fishing. * * *

* * * * *

5. Conditions A3 and A7 through A11 apply.

* * * * *

5. Revising §32.23 Arkansas by:

a. Revising paragraphs B.3. and B.4. of Bald Knob National Wildlife Refuge;

b. Revising paragraphs B.2. and B.3. of Cache River National Wildlife Refuge;

c. Revising paragraphs A.1. and A.11. and adding paragraphs A.22. through A.25. of Felsenthal National Wildlife Refuge;

d. Revising paragraphs A.1. and A.11. and adding paragraphs A.21. through A.24. of Overflow National Wildlife Refuge;

e. Revising paragraphs A.1., A.3., A.7., A.10., A.12., A.14., A.16., and A.17., adding paragraphs A.20. through A.24., revising paragraphs B.2., B.3., B.5., C.2., C.4., C.8., C.12., C.15., adding paragraphs C.17. and C.18., and revising paragraph D.2. of Pond Creek National Wildlife Refuge; and

f. Revising paragraphs A.8. through A.10., A.14., adding paragraph A.17., and revising paragraphs B.8., C.2. through C.4., C.6., C.8., C.17., C.22., removing paragraph D.8., redesignating paragraphs D.9. through D.11. as paragraphs D.8. through D.10., and revising newly redesignated paragraphs D.8. and D.10. of White River National Wildlife Refuge to read as follows:

§ 32.23 Arkansas.

* * * * *

Bald Knob National Wildlife Refuge

* * * * *

B. Upland Game Hunting. * * *

* * * * *

3. We allow fall squirrel hunting in accordance with the State season on the Mingo Creek Unit and on the Farm Unit, except for season closure on the Farm Unit during the Gun Deer Hunt. We prohibit dogs, except for the period of December 15 through February 28. We do not open for the spring squirrel season.

4. We allow rabbit hunting in accordance with the State season on the Mingo Creek Unit and on the Farm Unit, except for season closure on the Farm Unit during the Gun Deer Hunt. We prohibit dogs, except for the period of December 15 through February 28.

* * * * *

Cache River National Wildlife Refuge

* * * * *

B. Upland Game Hunting. * * *

* * * * *

2. Fall squirrel season corresponds with the State season on all refuge hunt units except for refugewide season closure during the Gun Deer Hunt. We prohibit dogs, except for the period of December 15 through February 28. We do not open for the spring squirrel season.

3. Rabbit season corresponds with the State season on all refuge hunt units except for refugewide season closure during the Gun Deer Hunt. We prohibit dogs, exept for the period of December 15 through February 28.

* * * * *

Felsenthal National Wildlife Refuge

A. Migratory Game Bird Hunting. * * *

1. We allow hunting of duck, goose, and coot during the State duck season except during scheduled quota refuge Gun Deer Hunts. We allow hunting of woodcock during the State season. Dates for quota deer hunts are typically in November, and we publish them annually in the refuge hunt brochure. We are open for the September teal season.

* * * * *

11. Hunters under age 16 do not need to have a hunter education card if they are under the direct supervision (within arm's reach) of a holder of a valid hunting license at least age 21.

* * * * *

22. We prohibit hunting with the aid of bait, salt, or any ingestible attractant (see §32.2(h)).

23. We prohibit hunting from a tree in which a metal object has been driven to support a hunter (see §32.2(i)).

24. If you harvest a deer or turkey on the refuge, you must immediately record the zone 220 on your deer/turkey tag as the zone of kill.

25. We prohibit the taking of wildlife or plants (including cutting trees or brush) other than specified in the hunt brochure (see §27.61 of this chapter).

* * * * *

Overflow National Wildlife Refuge

A. Migratory Game Bird Hunting. * * *

1. We allow hunting of duck, goose, and coot during the State duck season. We allow hunting of woodcock during the State season. The September teal season is closed.

* * * * *

11. Hunters under age 16 do not need to have a hunter education card if they are under the direct supervision (within arm's reach) of a holder of a valid hunting license who is at least age 21.

* * * * *

21. We prohibit hunting with the aid of bait, salt, or any ingestible attractant (see §32.2(h)).

22. We prohibit hunting from a tree in which a metal object has been driven to support a hunter (see §32.2(i)).

23. If you harvest a deer or turkey on the refuge, you must immediately record the zone 490 on your deer/turkey tag as the zone of kill.

24. We prohibit the taking of wildlife or plants (including cutting trees or brush) other than specified in this brochure (see §27.51 of this chapter).

* * * * *

Pond Creek National Wildlife Refuge

A. Migratory Game Bird Hunting. * * *

1. We allow hunting of migratory game birds during the State duck seasons, except we close during scheduled quota refuge Gun Deer Hunts. Dates for quota deer hunts are typically in November, and we publish them annually in the refuge hunt brochure. We are open for the September teal season.

* * * * *

3. We only allow portable blinds. Hunters must remove from the hunt area each day all duck hunting equipment, including blinds, decoys, and boats (see §27.93 of this chapter).

* * * * *

7. We prohibit marking trails with material other than biodegradable paper, flagging, or reflective tape/tacks.

* * * * *

10. Hunters under age 16 do not need to have a hunter education card if they are under the direct supervision (within arm's reach) of a holder of a valid hunting license who is at least age 21. An adult age 21 or older must supervise youth hunters under age 16 who have a valid Hunter Education Card, and youth hunters must remain in sight and normal voice contact with the adult. One adult may supervise no more than two youth hunters for any hunting season.

* * * * *

12. We prohibit hunting within 150 feet (45 m) of roads and trails (see §27.31 of this chapter) open to motor vehicle use (including ATV and designated hiking trails).

* * * * *

14. We allow only camping at designated primitive campground sites identified in the refuge hunt brochure. We restrict camping to the individuals involved in refuge wildlife-dependent activities. Campers may stay no more than 14 days during any consecutive 30-day period in a campground and must occupy the camps daily. We prohibit all disturbances, including use of generators, after 10 p.m. You must unload all weapons (see §27.42(b) of this chapter) within 100 yards (90 m) of a campground. We allow no more than three portable stands per person.

* * * * *

16. We prohibit blocking of gates, boat ramps, or roadways (see §27.31(h) of this chapter).

17. We allow the use of retriever dogs during State waterfowl seasons.

* * * * *

20. We prohibit possession, placement, or hunting over bait, salt, or any other ingestible attractant (see §32.2(h)).

21. We prohibit the use of an artificial light to locate wildlife (exception: raccoon/opossum hunting with dogs).

22. We prohibit taking of wildlife or plants (including cutting trees or brush) other than what we allow in the refuge brochure (see §27.61 of this chapter).

23. We prohibit placement of metal objects (screw, nail, spike, etc.) into a tree to support a hunter or hunting from a tree with such metal objects placed (see §32.2(i)).

24. We prohibit possessing, using, or leaving any tree stand, game camera, or boat on the refuge without the owner's name and address affixed in a conspicuous manner.

B. Upland Game Hunting. * * *

* * * * *

2. We do not open to spring squirrel season and summer/fall raccoon season.

3. Conditions A4 through A16 and A18 through A24 apply.

* * * * *

5. We allow use of dogs for squirrel, rabbit, raccoon, and opossum hunting during the State raccoon/opossum hunting season. At other times you must keep dogs and other pets on a leash or confined (see §26.21(b) of this chapter).

C. Big Game Hunting. * * *

* * * * *

2. Conditions A4 through A16 and A18 through A24 apply.

* * * * *

4. We allow muzzleloader deer hunting during the October State muzzleloader season for this deer management zone. The bag limit is one buck and one doe. Hunters must take and check-in a doe before taking a buck.

* * * * *

8. You must check all deer taken during the quota gun deer and muzzleloader hunts at the refuge deer check station on the same day of kill. You must keep carcasses of deer taken intact (you may remove entrails) until checked.

* * * * *

12. The refuge will conduct one 2-day, youth-only (age 15 and younger at the beginning of the spring turkey season) quota spring turkey hunt and one 3-day quota spring turkey hunt (typically in April). Specific hunt dates and application procedures will be available in January. We restrict hunt participants on these hunts to those drawn for a quota permit, except that during the youth hunt, a nonhunting adult age 21 or older must accompany the youth hunter. The limit is one bearded turkey.

* * * * *

15. One adult may supervise no more than one youth during big game hunts.

* * * * *

17. We prohibit deer drives.

18. We prohibit all public use, except fishing and access for fishing, during quota hunts.

D. Sport Fishing. * * *

* * * * *

2. Conditions A4 through A16 and A18 through A24 apply.

* * * * *

White River National Wildlife Refuge

A. Migratory Game Bird Hunting. * * *

* * * * *

8. Waterfowl hunters may enter and access the refuge no earlier than 4 a.m.

9. The following refuge users (age 16 or older) must sign and possess and carry a refuge general user permit: hunters, anglers, campers, and ATV users.

10. We prohibit boating December 1 through January 31 in the South Unit Waterfowl Hunt Area, except from 4 a.m. to 1 p.m. on designated hunt days.

* * * * *

14. We prohibit waterfowl hunting on Kansas Lake Area (indicated in user permit).

* * * * *

17. We allow the use of ATVs only on yellow-marked trails throughout the refuge, unless marked otherwise. We prohibit the use of ATVs after December 15 each year in designated South Unit areas (see user permit for areas).

B. Upland Game Hunting. * * *

* * * * *

8. We allow spring squirrel hunting on the North Unit with the concurrent State spring season dates.

C. Big Game Hunting. * * *

* * * * *

2. Archery deer and turkey seasons on the North Unit will begin with the concurrent State archery season and end January 31. (Kansas Lake Area Closed after November 30)

3. Archery deer and turkey seasons on the South Unit will begin with the concurrent State archery season and end December 31.

4. The user permit dictates the modern gun quota deer season dates each year for the North and South Units. We require a quota permit. You may take one deer of either sex.

* * * * *

6. We allow modern guns on the North Unit as per dates indicted in the general user brochure. We allow take of only one buck.

* * * * *

8. We allow muzzleloader hunting on the North Unit for 4 consecutive days following the 3-day muzzleloader quota hunt. We allow take of only one buck.

* * * * *

17. We prohibit distribution of bait or hunting with the aid of bait, salt, or ingestible attractant (see §32.2(h)).

* * * * *

22. We prohibit leaving a hunt stand after February 7 (one week after the end of the season).

* * * * *

D. Sport Fishing. * * *

* * * * *

8. We allow commercial fishing on all refuge waters from 12:00 pm (noon) September 30 through 12:00 p.m. (noon) November 30. However, when the White River exceeds 23.5 feet (7 m) at the St. Charles, Arkansas gauge or 146 msl at the tailwater gauge at Lock and Dam #1 on the Arkansas Post Canal, we allow commercial fishing on all refuge waters from 12:00 p.m. (noon) March 1 through 12:00 p.m. (noon) September 30.

* * * * *

10. Anglers must reset trotlines when receding water levels expose them. Anglers must display their name and address on a tag on each line.

6. Amend §32.24 California by:

a. Revising paragraphs A.1., A.6. through A.8., and A.10. of Humboldt Bay National Wildlife Refuge; and

b. Revising paragraphs A.2., A.6., A9., A.11., B.2., C.1., C.3., and D.2., and adding paragraph C.4. of Sacramento River National Wildlife Refuge to read as follows:

§ 32.24 California.

* * * * *

Humboldt Bay National Wildlife Refuge

A. Migratory Game Bird Hunting. * * *

1. We require adults age 18 or older to accompany youth hunters under age 16. No more than three youth hunters may accompany one adult hunter.

* * * * *

6. We require hunters to keep dogs inside vehicles, or on a leash, except when using them for authorized hunting purposes (see §26.21(b) of this chapter.

7. On the Salmon Creek Unit, we allow hunting on Tuesdays and Saturdays (except Federal holidays), and hunters must possess and carry a valid daily refuge permit. We issue refuge permits prior to each hunt by random drawing conducted at the check station 1½ hours before legal shooting time. Shooting time ends at 3 p.m. Hunters drawn for a blind must completely fill out a Refuge Hunt Permit, which includes a “Record of Harvest” section. Each hunter must possess and carry the Refuge Hunt Permit/Record of Harvest document while on the refuge and turn in a complete Record of Harvest at the check station before leaving the hunt area.

8. On the Salmon Creek Unit, you may possess only approved nontoxic shotshells (see §32.2(k)) in quantities of 25 or less per hunter, per day.

* * * * *

10. We open the waters of Hookton Slough (including Teal Island, but excluding saltmarsh islands and exposed mudflat) and White Slough (including Egret Island) to hunting on Saturdays, Sundays, Wednesdays, Federal holidays, and the opening and closing day of the State waterfowl hunting season. We have not opened the portion of the Hookton Slough unit between the dike and Hookton Road to hunting and firearms. We have not opened the boat dock on the Hookton Slough Unit to hunting and firearms and restrict use to nonmotorized boats only.

* * * * *

Sacramento River National Wildlife Refuge

A. Migratory Game Bird Hunting. * * *

* * * * *

2. On Sul Norte Unit, you must unload firearms (see §27.42(b) of this chapter) before transporting them between parking areas and hunting areas. “Unloaded” means that no ammunition is in the chamber or magazine or the firearm.

* * * * *

6. Access to the hunt area on all units open to public hunting is by boat only, except on Sul Norte Unit, which is accessible by foot traffic or boat. We prohibit bicycles or other conveyances. Mobility-impaired hunters should consult with the refuge manager for allowed conveyances.

* * * * *

9. We open the refuge for day-use access from 1½ hours before legal sunrise until 1½ hours after legal sunset. We allow access during other hours on gravel bars only (see condition A8).

* * * * *

11. We prohibit permanent blinds. You must remove all personal property, including decoys and boats, by 1½ hours after legal sunset (see §§27.93 and 27.94 of this chapter).

* * * * *

B. Upland Game Hunting. * * *

* * * * *

2. Conditions A2 through A12 apply.

C. Big Game Hunting. * * *

1. Conditions A2, A4 through A12, and B1 apply.

* * * * *

3. You must remove all personal property, including stands, from the refuge by 1½ hours after legal sunset (see §§27.93 and 27.94 of this chapter).

4. We allow shotgun, firing single shotgun slugs, and archery hunting only. We prohibit possession or use of rifles and pistols on the refuge.

D. Sport Fishing. * * *

* * * * *

2. On Packer Lake, due to primitive access, we allow only boats up to 14 feet (4.2 m) and canoes. We allow electric motors only.

* * * * *

7. Amend §32.27 Delaware by revising Prime Hook National Wildlife Refuge to read as follows:

§ 32.27 Delaware.

* * * * *

Prime Hook National Wildlife Refuge

A. Migratory Game Bird Hunting.

We allow hunting of waterfowl, coot, mourning dove, snipe, and woodcock on designated areas of the refuge in accordance with State regulations subject to the following conditions:

1. We require daily permits and fees. The permits are nontransferable. Consult with the refuge manager for details on permit conditions.

2. For all refuge hunts, a hunting or nonhunting adult age 18 or older must accompany a permitted juvenile age 17 or under.

3. Hunters may take waterfowl and coot on the Waterfowl Hunting Area only as designated on brochures available from the refuge manager.

4. The refuge is open to hunting of waterfowl and coot on Mondays, Wednesdays, Fridays, and Saturdays throughout the State waterfowl hunting seasons from ½ hour before legal sunrise until 3 p.m. Consult the refuge manager for dates when we close to hunting or have limited hunts.

5. Access to the Waterfowl Hunting Area is by boat only and hunters must use designated launching sites to launch their boats.

6. We prohibit the use of air-thrust and inboard water-thrust boats on all waters within the refuge boundaries. We allow a maximum horsepower of 30 HP.

7. We allow waterfowl hunting from designated blind sites only. We allow a maximum of three people per blind.

8. Hunters may take mourning dove, snipe, and woodcock only on the upland game hunting areas as shown on brochures available from the refuge manager.

B. Upland Game Hunting.

We allow hunting of pheasant, rabbit, and quail on designated areas of the refuge in accordance with State regulations subject to the following conditions:

1. Conditions A1 and A2 apply.

2. Hunters may take pheasant, rabbit, and quail only on designated upland game hunting areas as shown on brochures available from the refuge manager.

C. Big Game Hunting.

We allow hunting of white-tailed deer on designated areas of the refuge in accordance with State regulations subject to the following conditions:

1. Conditions A1 and A2 apply.

2. We prohibit the use or possession of handguns.

3. Hunters may take white-tailed deer only on designated deer hunting areas as shown on brochures available from the refuge manager.

4. Deer hunting during firearms seasons must be from designated stands only, unless actively tracking or retrieving wounded deer. We allow hunters to hunt from portable stands during archery hunts in all designated areas and during firearms hunts in the Slaughter Canal Area only. Tree stands must be portable, temporary in design, and completely removed at the end of each day. The Service is not responsible for any stands left overnight.

5. All persons in firearms hunting areas must display a minimum of 400 total square inches (2,600 cm2) of solid-blaze-orange material on their head, chest, and back. Blaze-orange camouflage is not acceptable. This includes hunters who are archery hunting on the refuge during days that coincide with State firearms hunt dates for deer.

6. Hunters may use or possess slugs only during designated shotgun seasons.

7. Each permitted hunter has a season limit of only one antlered deer on the refuge.

D. Sport Fishing.

We allow fishing and crabbing on designated areas of the refuge in accordance with State regulations subject to the following conditions:

1. We allow fishing and launching of boats on designated areas as shown on brochures available from the refuge manager.

2. The refuge is open from ½ hour before legal sunrise to ½ hour after legal sunset. All boats must be off the water at legal sunset.

3. Anglers using boats on Turkle and Fleetwood Ponds may propel them manually or with electric motors only.

4. We prohibit the use of air-thrust and inboard water-thrust boats on all waters within the refuge boundaries. We allow a maximum of 30HP on Prime Hook Creek.

8. Amend §32.28 Florida by:

a. Revising paragraphs A.2., A.3., A.5., A.6., A.13., and revising paragraph D.8. of Arthur R. Marshall Loxahatchee National Wildlife Refuge;

b. Revising paragraph D.5. of Hobe Sound National Wildlife Refuge;

c. Revising paragraphs B.2. and B.3. of Lower Suwannee National Wildlife Refuge;

d. Adding paragraph A.14. of Merritt Island National Wildlife Refuge;

e. Adding paragraph A.5. and revising paragraphs D.5. and D.7. of St. Marks National Wildlife Refuge; and

f. Revising paragraphs C.2., C.9., and C.19.iii. of St. Vincent National Wildlife Refuge to read as follows:

§ 32.28 Florida.

* * * * *

Arthur R. Marshall Loxahatchee National Wildlife Refuge

A. Migratory Game Bird Hunting. * * *

* * * * *

2. We allow hunting in the interior of the refuge south of latitude line 26.27.130 and north of mile markers 12 and 14. We prohibit hunting from canals or levees and those areas posted as closed.

3. Consult the refuge manager for current waterfowl season dates and times.

* * * * *

5. We allow hunting on the refuge from ½ hour before legal sunrise to 1 p.m. Hunters may enter the refuge no earlier than 4 a.m. and must be off the refuge by 3 p.m.

6. Hunters may enter and leave the refuge at the Headquarters Area (Boynton Beach), the Hillsboro Area (Boca Raton), and the 20 Mile Bend Area (West Palm Beach).

* * * * *

13. We only allow boats equipped with outboards or electric motors and nonmotorized boats. We prohibit airboats, hovercraft, and personal watercraft (Go Devils, Jet Skis, jet boats, and Wave Runners). All boats operating within the hunt area must fly a 12 inch by 12 inch (30 cm x 30 cm) orange flag, 10 feet (3 m) above the vessel's waterline.

* * * * *

D. Sport Fishing. * * *

* * * * *

8. Conditions A13, A14, A15, and A17 apply.

* * * * *

Hobe Sound National Wildlife Refuge

* * * * *

D. Sport Fishing. * * *

* * * * *

5. We allow only two poles per angler, and anglers must attend those poles at all times in conjunction with the Martin County, Florida two-pole ordinance.

* * * * *

Lower Suwannee National Wildlife Refuge

* * * * *

B. Upland Game Hunting. * * *

* * * * *

2. The refuge upland game hunting season opens on the Monday after the refuge limited hog hunt closes and ends on February 28.

3. You may only possess .22 caliber rimfire rifle (.22 magnum prohibited) firearms (see §27.42 of this chapter), shotguns with shot no larger than 4 common, and bows with arrows that have judo or blunt tips. We prohibit possession of arrows capable of taking big game during the upland game hunting season.

* * * * *

Merritt Island National Wildlife Refuge

A. Migratory Game Bird Hunting. * * *

* * * * *

14. Hunters may not use or possess more than 25 shells per day.

* * * * *

St. Marks National Wildlife Refuge

A. Migratory Game Bird Hunting. * * *

* * * * *

5. We prohibit migratory game bird hunting in the Executive Closure area on the refuge.

* * * * *

D. Sport Fishing. * * *

* * * * *

5. We allow use of hand-launched boats on impoundments on the St. Marks Unit from March 15 through October 15 each year. We prohibit launching of boats from trailers in the impoundments in the St. Marks Unit.

* * * * *

7. We prohibit use of cast nets and traps to take fish from any lake, pond, or impoundment on the refuge.

* * * * *

St. Vincent National Wildlife Refuge

* * * * *

C. Big Game Hunting. * * *

* * * * *

2. We restrict hunting to three hunt periods: Sambar deer, raccoon, and feral hog - November 17-19; and white-tailed deer, raccoon, and feral hog - December 15-17 and January 5-7. Hunters may check-in and set up camp sites and stands on November 16, December 14, and January 4. Hunters must leave the island and remove all equipment by 4 p.m. on the last day of the hunt.

* * * * *

9. You may retrieve game from the closed areas only if accompanied by a refuge staff member.

* * * * *

19. * * *

iii. Primitive weapons hunt - one white-tailed deer buck having one or more forked antlers at least 5 inches (12.5 cm) in length visible above the hairline with points greater than 1 inch (12.5 cm) in length; we issue a limited number of either-sex permits. If you have an either-sex permit, the bag limit is one deer that may be antlerless or a buck with legal antler configuration. There is no limit on feral hog or raccoon.

* * * * *

9. Amend §32.29 Georgia by:

a. Removing paragraph C.5. and redesignating paragraphs C.6. through C.19. as paragraphs C.5. through C.18. of Blackbeard Island National Wildlife Refuge;

b. Revising paragraph C.2., removing paragraph C.3., redesignating paragraphs C.4. through C.22. as paragraphs C.3. through C.21., revising newly redesignated paragraph C. 18., and adding new paragraph C.22. of Bond Swamp National Wildlife Refuge;

c. Revising paragraphs C.9. and C.12. of Harris Neck National Wildlife Refuge;

d. Revising paragraph D.4. of Piedmont National Wildlife Refuge;

e. Revising paragraphs A.1., C.3., C.5., C.10., and adding paragraph C.11. of Savannah National Wildlife Refuge; and

f. Revising paragraphs C.8. and C.9. of Wassaw National Wildlife Refuge to read as follows:

§ 32.29 Georgia.

* * * * *

Bond Swamp National Wildlife Refuge

* * * * *

C. Big Game Hunting. * * *

* * * * *

2. We require you to possess and carry a signed refuge hunt permit while hunting. You may obtain this permit from the refuge office.

* * * * *

18. We prohibit ATVs on the refuge except by disabled hunters with a refuge Special Use Permit.

* * * * *

22. Firearm hunting for feral hogs follows State of Georgia deer firearms restrictions except we prohibit buckshot. Legal firearms include center-fire rifles, shotgun with slugs, muzzleloader, and archery equipment.

* * * * *

Harris Neck National Wildlife Refuge

* * * * *

C. Big Game Hunting. * * *

* * * * *

9. During the archery hunt, we only allow bows. We prohibit crossbows (see §27.43 of this chapter).

* * * * *

12. During the gun hunt, we only allow shotguns with slugs 20 gauge or larger and bows. We prohibit crossbows (see §27.43 of this chapter).

* * * * *

Piedmont National Wildlife Refuge

* * * * *

D. Sport Fishing. * * *

* * * * *

4. We allow nonmotorized boats on all ponds designated as open to fishing. We allow boats with electric motors only in Pond 2A and Allison Lake.

* * * * *

Savannah National Wildlife Refuge

A. Migratory Game Bird Hunting. * * *

1. You must possess and carry a signed refuge permit at all times while hunting on the refuge. We require a fee only for the quota youth waterfowl hunt on the Solomon Tract.

* * * * *

C. Big Game Hunting. * * *

* * * * *

3. We only allow bows for deer and hog hunting during the archery hunt. We prohibit crossbows (see §27.43 of this chapter).

* * * * *

5. We only allow shotguns with slugs, muzzleloaders, and bows for deer and hog hunting throughout the designated hunt area during the November gun hunt and the March hog hunt. However, we allow centerfire rifles of .22 caliber or larger north of Interstate Highway 95 only. We prohibit handguns and crossbows (see §§27.42 and 27.43 of this chapter).

* * * * *

10. We only allow shotguns with #2 shot or smaller and bows for turkey hunting in accordance with State regulations. We prohibit possession of slugs or buckshot during turkey hunts. We prohibit crossbows (see §27.43 of this chapter).

11. You must remove hunt stands daily (see §27.93 of this chapter).

* * * * *

Wassaw National Wildlife Refuge

* * * * *

C. Big Game Hunting. * * *

* * * * *

8. We only allow bows and muzzleloading rifles during the primitive weapons hunt. We prohibit crossbows (see §27.43 of this chapter).

9. We only allow shotguns of 20-gauge or larger (slugs only), centerfire rifles of .22 caliber or larger, bows, and primitive weapons during the gun hunt. We prohibit crossbows (see §27.43 of this chapter).

* * * * *

10. Amend §32.31 Idaho by:

a. Revising paragraph A.2. of Bear Lake National Wildlife Refuge;

b. Removing paragraph A.3., redesignating paragraph A.4. as paragraph A.3., and removing paragraph B.2. of Camas National Wildlife Refuge;

c. Revising Kootenai National Wildlife Refuge; and

d. Revising the introductory text of paragraph D., revising paragraph D.3., and removing paragraph D.4. of Minidoka National Wildlife Refuge to read as follows:

§ 32.31 Idaho.

* * * * *

Bear Lake National Wildlife Refuge

A. Migratory Game Bird Hunting. * * *

* * * * *

2. We allow nonmotorized and motorized boats after September 20 within the designated refuge hunting areas.

* * * * *

Kootenai National Wildlife Refuge

A. Migratory Game Bird Hunting.:

We allow hunting of goose, duck, and coot on designated areas of the refuge in accordance with State regulations subject to the following conditions

1. We allow hunting only on Tuesdays, Thursdays, Saturdays, and Sundays.

2. You may possess only approved nontoxic shotshells (see §32.2(k)) in quantities of 25 or less per day.

3. You must unload all firearms when in the posted retrieving zone for purposes of retrieving downed birds or when traveling to and from the hunting area.

4. On waterfowl hunt days, we allow public entry onto the refuge from 3:00 a.m. until 1 hour after legal sunset.

5. We prohibit overnight vehicle parking on the refuge.

B. Upland Game Hunting.

We allow hunting of forest grouse on that portion of the refuge which lies west of Westside Road and west of Lion's Den Road in accordance with State regulations subject to the following condition: You may possess only approved nontoxic shotshells (see §32.2(k)) while in the field.

C. Big Game Hunting.

We allow hunting of deer, elk, black bear, moose, and mountain lion on that portion of the refuge which lies west of Westside Road and west of Lion's Den Road in accordance with State regulations.

D. Sport Fishing.

We allow sport fishing on Myrtle Creek in accordance with State regulations subject to the following conditions:

1. We allow bank fishing only.

2. We prohibit fishing from boats, float tubes, or other personal flotation devices.

Minidoka National Wildlife Refuge

* * * * *

D. Sport Fishing.

We allow sport fishing on designated areas of the refuge in accordance with State regulations subject to the following conditions:

* * * * *

3. We allow bank and float-tube fishing year-round, throughout all of Lake Walcott.

11. Amend §32.35 Kansas by revising paragraph A.9., adding paragraphs A.11. and A.12., revising the introductory text of paragraph B., revising paragraphs B.2. and B.5., adding paragraph B.6., revising paragraphs C.2., C.7., and C.9., adding paragraph C.10., and revising paragraphs D.4., D.7. and D.9. of Kirwin National Wildlife Refuge to read as follows:

§ 32.35 Kansas.

* * * * *

Kirwin National Wildlife Refuge

A. Migratory Game Bird Hunting. * * *

* * * * *

9. We prohibit the use of ATVs (all-terrain vehicle), OHVs (off-highway vehicle), NHVs (nonhighway vehicle), or snowmobiles on the refuge (see §27.31(f) of this chapter).

* * * * *

11. We prohibit overnight camping on the refuge.

12. We prohibit open fires on the refuge.

B. Upland Game Hunting.

We allow hunting of pheasant, quail, prairie chicken, fox squirrel, cottontail rabbit, and turkey on designated areas of the refuge in accordance with State regulations subject to the following conditions:

* * * * *

2. In addition to pheasant, we allow hunting of fox squirrel and cottontail rabbit only during pheasant season.

* * * * *

5. We prohibit retrieval of turkey from an area closed to turkey hunting.

6. Conditions A8 through A12 apply.

C. Big Game Hunting. * * *

* * * * *

2. You must obtain a refuge-issued permit to hunt deer on the refuge. You must sign and carry the permit in the field while hunting.

* * * * *

7. We prohibit retrieving deer from an area closed to deer hunting.

* * * * *

9. We prohibit the use of nails, wires, screws, or bolts to attach a stand to a tree or hunting from a tree into which a metal object has been driven (see §32.2(i)).

10. Conditions A8 through A12 apply.

D. Sport Fishing. * * *

* * * * *

4. We allow motorless boats in the Solomon Arm of Kirwin Reservoir from August 1 through September 30.

* * * * *

7. We prohibit fishing tournaments on the refuge.

* * * * *

9. Conditions A8 through A12 apply.

* * * * *

12. Amend §32.36 Kentucky by revising paragraphs A.2. and A.6., removing paragraph A.10., redesignating paragraphs A.11. through A.18. as paragraphs A.10. through A.17., revising newly redesignated paragraphs A.10., A.14., A.15., A.17., A.17.v., and adding paragraph D.2. of Clarks River National Wildlife Refuge to read as follows:

§ 32.36 Kentucky.

* * * * *

Clarks River National Wildlife Refuge

A. Migratory Game Bird Hunting. * * *

* * * * *

2. We prohibit the use of motorized off-road vehicles (e.g., ATVs) and any unlicensed vehicles on the refuge (see §27.31(f) of this chapter).

* * * * *

6. To retrieve or track game from a posted closed area of the refuge, the hunter must first receive authorization from the refuge manager at 270-527-5770 or the law enforcement officer at 270-702-2836.

* * * * *

10. We prohibit possession or use of alcoholic beverages while on the refuge (see §32.2(j)).

* * * * *

14. Waterfowl hunters must unload firearms and cease hunting ducks, geese, and coot at 12 p.m. (noon) daily during the State waterfowl season.

15. Waterfowl hunters must remove decoys, blinds, boats, and all other equipment (see §27.93 of this chapter) and be out of the field daily by 2 p.m.

* * * * *

17. We only allow waterfowl hunting on the Sharpe-Elva Water Management Units on specified Saturdays and Sundays during the State waterfowl season. We only allow hunting by individuals in possession of a refuge draw permit and their guests. State regulations and the following conditions apply:

* * * * *

v. We prohibit watercraft on the Sharpe-Elva Water Management Units, except for drawn permit holders to access their blinds and retrieve downed birds as needed.

* * * * *

D. Sport Fishing. * * *

* * * * *

2. The following apply to the Environmental Education and Recreation Area (EERA).

i. The EERA is a day-use area only.

ii. We only allow one rod and reel or pole and line for fishing per person.

iii. We prohibit the use of any type of watercraft.

iv. We prohibit the introduction or stocking of any species (see §27.52 of this chapter).

v. We prohibit the use of live fish for bait.

vi. We close designated portions of the EERA to all entry from November 1 to March 15.

vii. We allow the taking of largemouth bass, channel catfish, and bluegill in accordance with posted limits.

* * * * *

13. Amend §32.37 Louisiana by:

a. Revising paragraphs A.6., A.9., A.10., removing paragraph A.14., redesignating paragraphs A.15. and A.16. as paragraphs A.13. and A.14., revising newly redesignated paragraph A.13., adding paragraph A.15., revising paragraphs B.2., B.5., C.1., C.6., C.12., and adding paragraph D.6. of Bayou Cocodrie National Wildlife Refuge;

b. Revising paragraphs A.9., A.10, B.2., B.3., and C.8. of Big Branch Marsh National Wildlife Refuge;

c. Revising paragraph B.4., the introductory text of paragraph C., revising paragraph C.1., removing paragraph C.2., and redesignating paragraphs C.3. through C.8. as paragraphs C.2. through C.7. of Black Bayou Lake National Wildlife Refuge;

d. Revising paragraph A.1., adding paragraph C.3., revising paragraph D.11., and adding paragraph D.18. of Cameron Prairie National Wildlife Refuge;

e. Revising paragraphs A.1., A.2., A.3., A.8., A.10., A.19., A.26., A.27., A.28., B.1., B.2., and C.1., adding paragraphs C.11. and C.12., revising paragraph D.2., and removing paragraph D.11. of Cat Island National Wildlife Refuge;

f. Revising paragraphs A.4., A.10., A.13., A.15., adding paragraphs A.18., A.19., revising paragraph B.1., removing paragraph B.5., redesignating paragraphs B.6. through B.11. as paragraphs B.5. through B.10., revising newly redesignated paragraphs B.7. and B.8., and revising paragraphs C.1. and D.1. of Catahoula National Wildlife Refuge;

g. Revising paragraphs A.2., A.4., A.11., A.19., A.21., A.23., removing paragraphs A.24., A.25., A.27. and redesignating paragraph A.26. as paragraph A.24., paragraph A.28. as paragraph A.25., and paragraph A.29. as paragraph A.26., and adding paragraphs A.27. and A.28., revising paragraphs B.1. and B.2., removing paragraph B.3., redesignating paragraphs B.4. through B.8. as paragraphs B.3. through B.7., revising newly redesignated paragraph B.6., adding paragraph B.8., revising paragraphs C.1., C.2., C.3., C.6., removing paragraphs C.7. and C.8., revising paragraphs D.1., D.2., D.6., D.13., removing paragraph D.14., and redesignating paragraph D.15. as paragraph D.14. of Grand Cote National Wildlife Refuge;

h. Revising paragraphs A.3. and A.10. of Lacassine National Wildlife Refuge;

i. Revising paragraphs A.2., A.4., A.10., A.13., A.15., A.24., adding paragraphs A.25. and A.26., revising paragraphs B.1., B.2., B.6., adding paragraph B.8., revising paragraphs C., D.1., and D.9. of Lake Ophelia National Wildlife Refuge; and

j. Revising paragraphs A.2. and D.6. through D.9., and adding paragraph D.10. of Sabine National Wildlife Refuge;

k. Revising paragraphs A.3., A.5., A.6., A.9., A.11., A.12., B.2., B.6., B.7., adding paragraphs B.8. through B.10., and revising paragraphs C. and D.4. of Tensas River National Wildlife Refuge to read as follows:

§ 32.37 Louisiana.

* * * * *

Bayou Cocodrie National Wildlife Refuge

A. Migratory Game Bird Hunting. * * *

* * * * *

6. Any hunter under age 16 must possess and carry proof of completion of an approved Hunter Safety Course and be accompanied by an adult age 21 or older. Each adult may supervise (within sight of and in normal voice contact with) only one youth for all youth hunts except migratory birds. One adult may supervise no more than two youths while hunting migratory game birds.

* * * * *

9. Coyote, beaver, feral hog, and raccoon are incidental take species and, as such, you may take them during any open hunting season only with the weapon allowed for that season if you are a hunter having the required licenses and permits. There is no bag limit on coyote, feral hog, and beaver. State regulations apply on other incidental species.

10. You must check all game taken on the refuge before leaving the refuge at one of the self-clearing check stations indicated on the map in the refuge hunting and fishing regulations brochure. Each hunter is responsible for reporting harvest information on a hunter information report card located at the self-clearing check station.

* * * * *

13. Special access ATV trails are available for mobility-impaired hunters and hunters age 60 and older with proper State permits. Hunters with mobility impairments must possess and carry a valid Disabled Hunter Permit/Card from the State to use special access ATV trails. Hunters must equip their ATVs with a red flag at least 6 inches (15 cm) wide and 12 inches (30 cm) long on a pole or staff extending at least 36 inches (90 cm) above the level of the seat. State requirements for “Mobility-Impaired” classification apply.

* * * * *

15. Hunters must unload and encase firearms carried in vehicles or boats and on ATVs. We define loaded as shells in the gun's magazine or chamber, or percussion caps/primers on or in muzzleloaders. We define encased as fully enclosed in a covering designed for carrying a firearm. We allow firearms on the refuge only during the applicable gun hunts. We prohibit possession of any firearm while engaged in archery hunting.

B. Upland Game Hunting. * * *

* * * * *

2. Conditions A1, A3, and A7 through A15 apply.

* * * * *

5. Refuge users may enter the refuge no earlier than 4 a.m. and must exit the refuge by 2 hours after legal sunset except that raccoon and opossum hunters during the month of February may use the refuge at night.

* * * * *

C. Big Game Hunting. * * *

1. Conditions A1, A3, A7 through A15, and B5 apply.

* * * * *

6. We prohibit hunters leaving stands on the refuge until the opening day of archery season, and they must remove them by the end of the last day of the archery season. Hunters must clearly mark stands used on the refuge with the name and address of the owner of the stand. Hunters must remove portable stands from trees daily and must place free-standing stands in a nonhunting position daily (see §§27.93 and 27.94 of this chapter).

* * * * *

12. We prohibit baiting or hunting over bait and the possession of bait or any nonnaturally occurring attractant on the refuge (see §32.2(h)).

* * * * *

D. Sport Fishing. * * *

* * * * *

6. The refuge boat ramp is open from 4 a.m. until 2 hours after legal sunset.

* * * * *

Big Branch Marsh National Wildlife Refuge

A. Migratory Game Bird Hunting. * * *

* * * * *

9. We prohibit possession of buckshot, slugs, rifles, rifle ammunition, and lead shot.

10. We prohibit hunting within 150 feet (45 m) of any road open to vehicle travel, residence, or Boy Scout Road. We prohibit hunting in refuge-designated closed areas, which are posted on the refuge and identified in the refuge hunt permits (see §27.31 of this chapter).

* * * * *

B. Upland Game Hunting. * * *

* * * * *

2. You may only use dogs for squirrel and rabbit after the close of the State archery deer season.

3. We only allow dogs to locate, point, and retrieve when hunting for quail.

* * * * *

C. Big Game Hunting. * * *

* * * * *

8. Conditions A5 through A13 apply, except in condition A7, one adult may supervise only one youth while hunting big game.

* * * * *

Black Bayou Lake National Wildlife Refuge

* * * * *

B. Upland Game Hunting. * * *

* * * * *

4. We allow the use of dogs to hunt squirrel and rabbit during that part of the State season that occurs in January and February.

* * * * *

C. Big Game Hunting.

We allow archery hunting of white-tailed deer on designated areas of the refuge during the State season in accordance with State regulations subject to the following conditions:

1. Conditions A1, A2, A4, A6, A10, A11, and B7 apply.

* * * * *

Cameron Prairie National Wildlife Refuge

A. Migratory Game Bird Hunting. * * *

1. The waterfowl hunt consists of a youth (age 15 and younger) limited permit hunt only. We provide hunt dates and application requirements to the public through the media early each fall. We notify successful applicants prior to the applicable hunt season. The permitted youth must be present in the blind for his/her guest to hunt.

* * * * *

C. Big Game Hunting. * * *

* * * * *

3. We prohibit entrance to the hunting area earlier than 4 a.m. Hunters must leave no later than 1 hour after legal sunset.

D. Sport Fishing. * * *

* * * * *

11. Allowed cast net size is in accordance with State regulations.

* * * * *

18. We allow cast netting for bait on both the East Cove Unit and the Gibbstown Unit in accordance with State regulations when the unit is open for public fishing only.

Cat Island National Wildlife Refuge

A. Migratory Game Bird Hunting. * * *

1. Hunters or anglers age 16 or older must possess and carry a valid, signed refuge Public Use Permit certifying that they understand and will comply with all regulations.

2. All users must obtain a daily use reporting card and place it in plain view on the dashboard of their vehicle so that the personal information is readable. Users must return cards to the refuge kiosk upon departure from the refuge.

3. Hunters may enter the refuge 2 hours before legal sunrise and must exit the refuge no later than 2 hours after legal sunset. We prohibit entering or remaining on the refuge before or after hours.

* * * * *

8. Hunters must report all harvested game on the back of the daily use reporting card prior to leaving the refuge.

* * * * *

10. Hunters must unload and encase firearms, including muzzleloaders, transported on roads, ATV trails, or waterways within the refuge boundary (see §27.42(b) of this chapter).

* * * * *

19. Waterfowl hunters must remove boats, blinds, and decoys by 1 p.m. daily.

* * * * *

26. We prohibit possession of alcohol (see §32.2(j)).

27. We prohibit possession of handguns.

28. We prohibit all commercial activities (including, but not limited to, guiding).

B. Upland Game Hunting. * * *

1. Conditions A1 through A17, A19, A21, A22, and A26 through A28 apply.

2. We allow the use of .22 caliber long rifles and shotguns to hunt upland game.

* * * * *

C. Big Game Hunting. * * *

1. Conditions A1 through A17, A19, A21, A22, and A26 through A28 apply.

* * * * *

11. We allow “still hunting” only. We prohibit man drives or use of dogs.

12. We prohibit use or possession of climbing spurs.

D. Sport Fishing. * * *

* * * * *

2. Conditions A1 through A4, A8, A9 (on the open portions of Wood Duck ATV trail for wildlife-dependent activities throughout the year), A13 through A16, A19, A21 through A23 and A26 through A28 apply.

* * * * *

Catahoula National Wildlife Refuge

A. Migratory Game Bird Hunting. * * *

* * * * *

4. We allow use of ATVs on designated trails (see §27.31 of this chapter) subject to refuge-specific dates and terms (see refuge hunting brochure for details). We prohibit the use of an ATV on graveled roads designated for motor vehicle traffic unless otherwise posted. We only allow ATVs for wildlife-dependent activities. We define an ATV as an off-road vehicle (not legal for highway use) with factory specifications not to exceed the following: weight 750 pounds (337.5 kg), length 85 inches (212.5 cm), and width 48 inches (120 cm). We restrict ATV tires to those no larger than 25 x 12 with a maximum 1 inch (2.5 cm) lug height and a maximum allowable tire pressure of 7 psi as indicated on the tire by the manufacturer.

* * * * *

10. Youth hunters under age 18 must successfully complete a State-approved hunter education course. While hunting, each youth must possess and carry a card or certificate of completion. Each youth hunter must remain within sight and normal voice contact of an adult age 21 or older. Each adult must possess and carry a refuge permit and may supervise no more than two youth hunters.

* * * * *

13. We prohibit any person or group to act as a hunting or fishing guide, outfitter, or in any other capacity that any other individual(s) pays or promises to pay directly or indirectly for services rendered to any other person or persons hunting or fishing on the refuge, regardless of whether such payment is for guiding, outfitting, lodging, or club membership.

* * * * *

15. We only allow dogs to locate, point, and retrieve when hunting for migratory game birds. We only allow dogs after the last refuge deer muzzleloader hunt, except when we allow them for waterfowl hunting throughout the entire refuge waterfowl season.

* * * * *

18. We prohibit vehicles having wheels with a wheel-tire combination having a radius of 17 inches (42.5 cm) or more from the center of the hub (measured horizontal to ground).

19. Refuge hunting seasons apply to all navigable waterways that are wholly within the refuge boundaries.

B. Upland Game Hunting. * * *

1. Conditions A1, A4, A7 through A11, A13, A14, and A16 through A19 apply.

* * * * *

7. At the Headquarters Unit, we close upland and big game hunting during high water conditions with an elevation of 42 feet (12.6 m) or above as measured at the Corps of Engineers center of the lake gauge on Catahoula Lake. At the Bushley Bayou Unit, we close upland and big game hunting during high water conditions with an elevation of 44 feet (13.2 m) or above as measured at the Corps of Engineers center of the lake gauge on Catahoula Lake.

8. On the Bushley Bayou Unit, we allow the use of dogs to hunt squirrel, rabbit, and raccoon only after the last refuge deer-muzzleloader hunt. We allow no more than two dogs per hunting party for squirrel hunting. Hunters may use only beagles that do not exceed 15 inches (37.5 cm) at front shoulders for rabbit hunting.

* * * * *

C. Big Game Hunting. * * *

1. Conditions A1, A4, A7 through A9, A11, A13, A14, A16 through A19, B4 through B7, and B10 apply.

* * * * *

D. Sport Fishing. * * *

1. Conditions A4, A7, A9, A13, A14, A16, A17, and B6 apply.

* * * * *

Grand Cote National Wildlife Refuge

A. Migratory Game Bird Hunting. * * *

* * * * *

2. Hunters must check-in and check out subject to refuge-specific terms (see refuge hunting brochure for details).

* * * * *

4. Youth hunters under age 18 must successfully complete a State-approved hunter education course. While hunting, each youth must possess and carry a card or certificate of completion. Each youth hunter must remain within sight and normal voice contact of an adult age 21 or older. Each adult may supervise no more than two youth hunters during waterfowl hunts.

* * * * *

11. We prohibit hunting within 150 feet (45 m) of any public road, refuge road, trail or ATV trail, building, residence, or designated public facility.

* * * * *

19. We prohibit handguns (see §27.42 of this chapter).

* * * * *

21. We allow only incidental take of mourning dove, rail, or snipe while migratory bird hunting on days open to waterfowl hunting.

* * * * *

23. There will be lottery space blind waterfowl hunts on designated sections of the refuge during the regular State waterfowl season subject to refuge-specific dates, terms, and selection process (see refuge hunting brochure for details). Youth ages 10 to 17 and their adult co-applicant supervisors are given preference in the lottery space blind waterfowl hunt. Once selected for a lottery space blind waterfowl hunt, the youth co-applicant must be present on the day of the hunt for the permit to be valid. In the event that we receive no youth applications for a given hunting date, we will fill blinds with adult applicants for that date. All hunts are subject to water availability.

* * * * *

27. Hunting is subject to closure due to high water conditions.

28. We prohibit any person or group to act as a hunting guide, outfitter, or in any other capacity that any other individual(s) pays or promises to pay directly or indirectly for services rendered to any other person or persons hunting on the refuge, regardless of whether such payment is for guiding, outfitting, lodging, or club membership.

B. Upland Game Hunting. * * *

1. Conditions A1 through A16, A20, and A24 through A28 apply.

2. We allow rabbit hunting during the State season.

* * * * *

6. We allow the use of .22 caliber or less rimfire rifles or shotguns to hunt upland game.

* * * * *

8. We require hunters participating in special dog seasons for rabbit to wear a minimum of an unbroken hunter orange cap. All other hunters and archers (while on the ground), except waterfowl hunters, also must wear an unbroken hunter orange cap during the special dog seasons for rabbit.

C. Big Game Hunting. * * *

1. Conditions A1 through A16, A20, A24 through A28, B6, and B7 apply.

2. We allow archery hunting in designated units subject to refuge-specific dates and harvest restrictions (see refuge hunting brochure for details).

3. We allow only portable deer stands (see §§27.93 and 27.94 of this chapter). Deer stands must have the owner's name, address, and phone number clearly printed on the stand. Hunters may erect stands 2 days before hunting season; however, they must place stands in a nonhunting position at the conclusion of each hunt and remove them on the last day of the State archery deer season.

* * * * *

6. Archery hunters must complete, possess, and carry proof of completion of the International Bowhunters' Safety Course.

D. Sport Fishing. * * *

1. Conditions A1, B5, A6, A10, A11, A13 through A15, A19, A20, and A26 apply.

2. We only allow bank fishing in Coulee Des Grues along Little California Road.

* * * * *

6. We allow recreational crawfishing subject to refuge-specific dates and terms (see refuge hunting brochure for details).

* * * * *

13. We prohibit the harvest of frog, turtle, snake, or mollusk (see §27.21 of this chapter).

* * * * *

Lacassine National Wildlife Refuge

A. Migratory Game Bird Hunting. * * *

* * * * *

3. We allow hunting Wednesdays, Thursdays, Saturdays, and Sundays of the State teal and duck seasons (western zone). We close the refuge to hunting during the “goose only” waterfowl season. State daily and season harvest limits apply.

* * * * *

10. Limited permit waterfowl hunting consists of youth (age 15 and younger) and senior (age 55 and older) lottery hunts. We provide hunt dates and application information to the public through the media early each fall. We notify successful applicants prior to the applicable hunt season. The permitted youth and/or senior must be present in the blind for his/her guest to hunt. We allow only successful applicants and their guests within Unit B.

* * * * *

Lake Ophelia National Wildlife Refuge

A. Migratory Game Bird Hunting. * * *

* * * * *

2. Hunters must check-in and check out subject to refuge-specific terms (see refuge hunting brochure for details).

* * * * *

4. Youth hunters under age 18 must successfully complete a State-approved hunter education course. While hunting, each youth must possess and carry a card or certificate of completion. Each youth hunter must remain within sight and normal voice contact of an adult age 21 or older. Each adult may supervise no more than two youth hunters during waterfowl hunts.

* * * * *

10. We prohibit hunting or shooting within 150 feet (45 m) of any public road, refuge road, ATV trail, hiking trail, building, residence, designated public facility, or active oil well site, production facility, or equipment.

* * * * *

13. We prohibit all other hunting during refuge lottery muzzleloader deer hunts.

* * * * *

15. We allow motors up to 25 hp in Possum Bayou (north of Boat Ramp), Palmetto Bayou, Duck Lake, Westcut Lake, Pt. Basse, and Nicholas Lake.

* * * * *

24. We prohibit handguns (see §27.42 of this chapter).

25. We prohibit vehicles having wheels with a wheel-tire combination having a radius of 17 inches (42.5 cm) or more from the center of the hub (measured horizontal to ground).

26. We prohibit any person or group to act as a hunting guide, outfitter, or in any other capacity that any other individual(s) pays or promises to pay directly or indirectly for services rendered to any other person or persons hunting on the refuge, regardless of whether such payment is for guiding, outfitting, lodging or club membership.

B. Upland Game Hunting. * * *

1. Conditions A1 through A16, A19, and A22 through A26 apply.

2. We allow squirrel and rabbit hunting in Hunt Unit 2B subject to refuge-specific dates and terms (see refuge hunting brochure for details).

* * * * *

6. We allow the use of .22 caliber or less rimfire rifles or shotguns to hunt upland game.

* * * * *

8. We require hunters participating in special dog seasons for rabbit and squirrel to wear a minimum of an unbroken hunter-orange cap. All other hunters and archers (while on the ground), except waterfowl hunters, also must wear an unbroken hunter-orange cap during the special dog seasons for rabbit and squirrel.

C. Big Game Hunting.

We allow hunting of white-tailed deer and turkey on designated areas of the refuge as shown on the refuge hunting brochure map in accordance with State regulations subject to the following conditions:

1. Conditions A1 through A3, A5 through A16, A19, A22 through A26, B7, and B8 apply.

2. We only allow portable deer stands (see §§27.93 and 27.94 of this chapter). We require hunters to permanently attach their name, address, and phone number to the deer stand. Hunters may erect stands 2 days before hunting season; however, they must place stands in a nonhunting position at the conclusion of each hunt and remove them on the last day of the State archery deer season.

3. We allow archery hunting in Units 1A, 1B, 2A, and 2B subject to refuge-specific date and harvest restrictions (see refuge hunting brochure for dates).

4. We allow youth deer hunting in the closed area during the lottery youth deer season. Lottery youth deer gun hunts are subject to the refuge-specific dates, terms, and selection process (see refuge hunting brochure for details). Youth selected in prior years' youth hunts may not apply.

5. We prohibit the use of organized drives for taking or attempting to take game or using pursuit dogs.

6. We allow archery equipment only during designated seasons.

7. Archery hunters must complete, possess, and carry proof of completion of the International Bowhunters' Safety Course.

8. We prohibit the use of dogs to trail wounded deer.

9. We allow electric-powered or nonmotorized boats in Lake Ophelia from November 1 through December 15 (see refuge hunting brochure for details).

10. You may kill one deer of either sex per day during the refuge archery season. Deer killed on the refuge count towards the State bag limit.

11. We require a minimum of 400 square inches (2,600 cm2) of unbroken hunter orange as the outermost layer of clothing on the chest and back, and in addition we require a hat or cap of unbroken hunter orange during all deer lottery youth gun hunts and quota muzzleloader hunts. Deer hunters hunting from concealed ground blinds must display a minimum of 400 square inches of hunter orange above or around their blinds which is visible from 360o.

12. Youth hunters under age 18 must successfully complete a State-approved hunter education course. While hunting, each youth must possess and carry a card or certificate of completion. Each youth hunter must remain within sight and normal voice contact of an adult age 21 or older. Each adult may supervise only one youth hunter during big game hunts.

13. There will be lottery deer muzzleloader hunts subject to refuge-specific dates, terms, and selection process (see refuge hunting brochure for details). Applicants may not apply for more than one hunt. There is a $5 nonrefundable application fee per person for each hunt application.

14. We prohibit driving or screwing nails, spikes, or other metal objects into trees or hunting from any tree in which such an object has been driven (see §32.2(i)).

15. We only allow turkey hunting during the first 14 days of the State season until 12 p.m. (noon).

16. We allow the use and possession of lead shot for turkey hunting (see §32.2(k)).

17. We prohibit the possession of saws, saw blades, or machetes.

D. Sport Fishing. * * *

1. Conditions A1, A5 through A9, A19 (see §27.93 of this chapter), and A22 through A25 apply.

* * * * *

9. We prohibit the harvest of frog, turtle, snake, or mollusk (see §27.21 of this chapter).

* * * * *

Sabine National Wildlife Refuge

A. Migratory Game Bird Hunting. * * *

* * * * *

2. We allow waterfowl hunting only on Wednesdays, Thursdays, Saturdays, and Sundays during the State teal season and during the regular State waterfowl season for the west zone.

* * * * *

D. Sport Fishing. * * *

* * * * *

6. Conditions A7, A9, A13 (fishing guide), and A15 apply.

7. We allow anglers to enter the refuge by boat from 1 hour before legal sunrise to 1 hour after legal sunset in order to access fishing areas. We prohibit fishing activities, however, before legal sunrise and after legal sunset.

8. Crabbing: We allow recreational crabbing in designated areas of the refuge subject to the following conditions:

i. You must take crabs only with cotton hand lines or drop nets up to 24 inches (60 cm) outside diameter. We prohibit use of floats on crab lines.

ii. You must remove all hand lines, drop nets, and bait (see §27.93 of this chapter) from the refuge upon leaving.

iii. We allow a daily limit on crabs of 5 dozen (60) per vehicle or boat.

9. Cast Netting: We allow cast netting in designated areas of the refuge only during the Louisiana Inland Shrimp Season subject to the following conditions:

i. We allow cast netting only from 12 p.m. (noon) to legal sunset.

ii. We only allow recreational cast netting for shrimp. You must immediately return all fish, crabs, or other incidental take (by catch) to the water before continuing to cast net.

iii. We allow a daily shrimp limit of 5 gallons (19 L) of heads-on shrimp per day, per vehicle, or per boat.

iv. Shrimp must remain in your actual custody while on the refuge.

v. You may cast net only from the bank and wharves at Northline, Hog Island Gully, and 1A-1B Public Use Areas or at sites along Hwy. 27 that provide developed safe access and that we do not post and sign as closed areas.

vi. We prohibit cast netting at or around the West Cove Public Use Area or on or around any boat launch.

vii. You may cast net from a boat throughout the refuge except where posted and signed as closed.

viii. We prohibit reserving a place or saving a space for yourself or others by any means to include placing unattended equipment in designated cast-netting areas.

ix. We prohibit swimming and/or wading in the refuge canals or wading in the canals and waterways.

10. We prohibit the taking of turtle (see §27.21 of this chapter).

Tensas River National Wildlife Refuge

A. Migratory Game Bird Hunting. * * *

* * * * *

3. We allow refuge hunters to enter the refuge no earlier than 4 a.m., and they must leave no later than 2 hours after legal sunset unless they are participating in the refuge raccoon hunt.

* * * * *

5. We allow shotguns equipped with a single-piece magazine plug that allows the gun to hold no more than two shells in the magazine and one in the chamber. We prohibit target practicing or shooting to unload modern firearms on the refuge at any time. Shotgun hunters must possess only an approved nontoxic shot when hunting migratory birds (see §32.2(k)). Hunters must unload and encase all guns transported in automobiles and boats or on all-terrain vehicles. We define loaded as shells in gun, magazine, or chamber or caps on muzzleloader. We allow firearms on the refuge only during the refuge hunting season.

6. We prohibit permanent or pit blinds on the refuge. You must remove all blind materials and decoys following each day's hunt.

* * * * *

9. We prohibit baiting or the possession of bait while on the refuge at any time (see §32.2(h)).

* * * * *

11. While visiting the refuge, we prohibit: spotlighting (see §27.73 of this chapter), littering (see §27.95 of this chapter), fires (see §27.95(a) of this chapter), trapping, man-drives for game, possession of alcoholic beverages in hunting areas (see §§32.2(j)) and 27.81 of this chapter), possession of open alcoholic beverage containers, flagging, engineers tape, paint, unleashed pets (see §26.21(b) of this chapter), and parking/blocking trail and gate entrances (see §27.31(h) of this chapter). We also prohibit hunting or shooting within 150 feet (45 m) of a designated public road, maintained road, trail, fire breaks, dwellings, and above-ground oil and gas production facilities.

We define a maintained road or trail as one which has been mowed, disked, or plowed.

12. We require a Tensas River National Wildlife Refuge Access Permit for all migratory bird hunts. You may find the permit on the front of the Public Use Regulations brochure.

* * * * *

B. Upland Game Hunting. * * *

* * * * *

2. We allow squirrel and rabbit hunting with and without dogs. We will allow hunting without dogs from the beginning of the State season and typically ending the day before the refuge deer muzzleloader hunt. We do not require you to wear hunter orange during the squirrel and rabbit hunt without dogs. Squirrel and rabbit hunting with or without dogs will begin the day after the refuge deer muzzleloader hunt and will end the last day of the refuge squirrel season, which typically ends on February 15.

* * * * *

6. We allow .22 caliber rimfire weapons and shotguns equipped with a single-piece magazine plug that allows the gun to hold no more than two shells in the magazine and one in the chamber. We prohibit target practicing or shooting to unload modern firearms on the refuge at any time. Shotgun hunters must possess only an approved nontoxic shot when hunting upland game (see §32.2(k)). Hunters must unload and encase all guns transported in automobiles and boats or on all-terrain vehicles. We define loaded as shells in gun or caps on muzzleloaders. We allow firearms on the refuge only during the refuge hunting season.

7. We require all upland game hunters to report their game immediately after each hunt at the check station nearest to the point of take.

8. Conditions A7, A10, A11, and A13 apply.

9. We prohibit field dressing of game within 150 feet (45 m) of parking areas, maintained roads, and trails.

C. Big Game Hunting.

We allow hunting of white-tailed deer and turkey on designated areas of refuges in accordance with State regulations subject to the following conditions:

1. Deer archery season will begin the first Saturday in November and will conclude on the last day of the State archery season (typically January 31). We require that archery hunters, including crossbow hunters, possess proof of completion of the International Bowhunters Safety course. We prohibit archery hunting during the following refuge-wide deer hunts: youth gun hunt and modern firearms hunts. We prohibit possession of pods, drug-tipped arrows, or other chemical substances.

2. The deer muzzleloader season will last 3 days and occur on a Monday, Tuesday, and Wednesday in January. We will allow in-line muzzleloaders and magnified scopes.

3. We will conduct two 2-day quota modern firearms hunts for deer typically in the month of December. Hunt dates and permit application procedures will be available at refuge headquarters in July. We restrict hunters using a muzzleloader during this hunt to areas where we allow modern firearms.

4. We will conduct guided quota youth deer hunts and guided quota physically challenged deer hunts in the Greenlea Bend area typically in December and January. Hunt dates and permit application procedures will be available at the refuge headquarters in July.

5. We will conduct a refuge-wide youth deer hunt during the Statewide youth hunt weekend typically in November. Hunt dates will be available at refuge headquarters in July. Each participating youth must be ages 8 to 15, must possess proof of completion of an approved Hunter Safety Course, and must be accompanied at all times by an adult age 21 or older. Each hunting adult can supervise only one youth.

6. Hunters may take only one deer (one buck or one doe) per day during refuge deer hunts except during guided youth and physically challenged hunts where the limit will be one antlerless and one antlered deer per day.

7. We allow turkey hunting the first 16 days of the State turkey season. We will conduct a youth turkey hunt the Saturday and Sunday before the regular State turkey season. Hunters may harvest two bearded turkeys per season. We allow the use and possession of lead shot while turkey hunting on the refuge. We allow use of nonmotorized bicycles on designated all-terrain vehicle trails. Although you may hunt turkey without displaying a solid hunter-orange cap or vest during your turkey hunt, we do recommend its use.

8. We allow refuge hunters to enter the refuge no earlier than 4 a.m., and they must depart no later than 2 hours after legal sunset unless they are participating in the refuge raccoon hunt.

9. In areas posted “Area Closed,” we prohibit big game hunting at any time. We close “Closed Areas” (designated on the Public Use Regulations brochure map) to all hunts. We prohibit shooting into or across any closed area with a gun or archery equipment.

10. We allow shotguns equipped with a single-piece magazine plug that allows the gun to hold no more than two shells in the magazine and one in the chamber. We allow shotgun hunters to use rifled slugs only when hunting deer. We prohibit hunters to use or possess buckshot while on the refuge. We prohibit target practicing or shooting to unload modern firearms on the refuge at any time. We require hunters to unload and encase all guns transported in automobiles and boats or on all-terrain vehicles. We define loaded as shells in gun or caps on muzzleloader. We allow firearms on the refuge only during the refuge hunting season.

11. We allow muzzleloader hunters to discharge their muzzleloaders at the end of each hunt safely into the ground at least 150 feet (135 m) from any designated public road, maintained road, trail, fire break, dwelling, or above-ground oil and gas production facility. We define a maintained road or trail as one that has been mowed, disked, or plowed, or one that is free of trees.

12. We allow all-terrain vehicle travel on designated trails for access typically from September 15 to the last day of the refuge squirrel season. Designated trails are open from 4 a.m. to no later than 2 hours after legal sunset unless otherwise specified. We define an ATV as an off-road vehicle (not legal for highway use) with factory specifications not to exceed the following: weight 750 pounds (338 kg), length 85 inches (213 cm), and width 48 inches (120 cm). We restrict ATV tires to those no larger than 25x12 with a 1 inch (2.5 cm) lug height and maximum allowable tire pressure of 7psi. We require an affixed refuge all-terrain vehicle permit that hunters may obtain from the refuge headquarters typically in July. Hunters using the refuge physically challenged all-terrain trails must possess the State's Physically Challenged Program Hunter Permit. Additional physically challenged access information will be available at the refuge headquarters.

13. We allow nonmotorized boats, electric motors, and boats with motors 10 horsepower or less in refuge lakes, streams, and bayous. We require that boat passengers wear personal flotation devices when using a boat to access the refuge. Hunters must equip all motorized boats with navigation lights and utilize them according to State regulations. We prohibit storage of boats on the refuge. Hunters must remove them daily.

14. We prohibit deer hunters leaving deer stands unattended before the opening day of the refuge archery season. They must remove stands by the end of the last day of the refuge archery season. Hunters must clearly mark stands left unattended on the refuge with the name and address of the stand owner. Hunters must remove portable stands from trees daily and place freestanding stands in a nonhunting position when unattended.

15. We require deer hunters using muzzleloaders or modern firearms to display a solid hunter-orange cap on their head and a solid hunter-orange vest over their outermost garment covering their chest and back. Hunters must display the solid hunter-orange items the entire time while in the field.

16. We require muzzleloader and modern firearms hunters using ground blinds to display outside of the blind 400 square inches (2,600 cm2) of hunter orange, which is visible from all sides of the blind. Hunters must wear orange vests and hats as their outermost garments while inside the blind.

17. We require all deer and turkey hunters to report their game immediately after each hunt at the check station nearest to the point of take.

18. We prohibit baiting or the possession of bait while on the refuge at any time (see §32.2(h)). We prohibit possession of chemical baits or attractants used as bait.

19. We prohibit any hunter to use climbing spikes or hunt from a tree that contains screw-in steps, nails, screw-in umbrellas, or any metal objects that could damage trees or to possess any such items (see §32.2(i)).

20. While visiting the refuge, we prohibit: spotlighting (see §27.73 of this chapter), littering (see §27.94 of this chapter), fires (see §27.95 of this chapter), trapping, man-drives for game, possession of alcoholic beverages in hunting areas, possession of open alcoholic beverages (see §§32.2(j) and 27.81 of this chapter), flagging, engineer's tape, paint, unleashed pets (see §26.21(b) of this chapter), parking/blocking trail and gate entrances (see §27.31(h) of this chapter). We also prohibit hunting within 150 feet (45 m) of a designated public road, maintained road, trail, fire break, dwelling, and above-ground oil and gas production facility. We define a maintained road or trail as one that has been mowed, disked, or plowed.

21. We require a Tensas River National Wildlife Refuge Access Permit for all big game hunts. Hunters may find the permit on the front of the Public Use Regulations brochure.

22. We prohibit field dressing of game within 150 feet (45 m) of parking areas, maintained roads, and trails.

D. Sport Fishing. * * *

* * * * *

4. We allow anglers to operate nonmotorized boats, electric motors, and boats with motors 10 horsepower or less in refuge lakes, streams, and bayous. We require that boat passengers wear personal floatation devices when using a boat under power to access the refuge. Anglers must equip all motorized boats with navigation lights and use them according to State regulations. We prohibit boat storage on the refuge, and anglers must remove them daily.

* * * * *

14. Amend §32.39 Maryland by revising Patuxent Research Refuge to read as follows:

§ 32.39 Maryland.

* * * * *

Patuxent Research Refuge

A. Migratory Game Bird Hunting.

We allow hunting of goose, duck, and dove on the North Tract in accordance with State regulations subject to the following conditions:

1. We require a hunting permit. We issue permits through our Cooperating Association Meade Natural Heritage Association (MNHA) at the refuge Hunting Control Station (HCS). MNHA charges a fee for each permit. Contact refuge headquarters for more information.

2. We publish the Refuge Hunting Regulations, which includes the daily and yearly bag limits and hunting dates, in late summer. We provide you with a copy of the regulations with your fee permit, and we require you to know the specific hunt seasons and regulations.

3. We require hunters, age 17 or younger, to have a parent or guardian cosign to receive a hunting permit.

4. We require hunters, age 17 or younger, to be accompanied in the field by an adult possessing a refuge hunting permit, age 21 or older.

5. You must check-in and out at the HCS and exchange your hunting permit for a daily hunting pass and a vehicle pass every time you enter or exit the refuge. This includes breakfast, lunch, dinner and other breaks if you leave your designated hunting area.

6. You must use designated and maintained roads for vehicular traffic.

7. You must park within the selected area specified and not block traffic or gates (see §27.31(h) of this chapter).

8. We restrict you to the selected area and activity until you check out at the HCS.

9. We prohibit hunting on or across any road (paved, gravel, opened, and/or closed), within 50 yards (45 m) of a road (paved, gravel, dirt, opened and/or closed), within 150 yards (135 m) of any building or shed, and within 25 yards (22.5 m) from any designated “No Hunting” or “Safety Zone” areas. Hunters must unload all weapons in the described areas except:

i. You may hunt from the road, 50 yards (135 m) beyond the gate at Blue Heron Pond;

ii. You may hunt from the road, 50 yards (135 m) beyond the barricade at Wood Duck Pond;

iii. You may hunt from any refuge permanent photo/hunt blind.

iv. You may hunt from the roadside, at designated areas, if you possess a Maryland State “Hunt from a Vehicle Permit”

10. You may carry only one shotgun, 20 gauge or larger, in the field. We prohibit additional firearms.

11. You must wear, in a visible manner and at all times, a minimum of 400 square inches (2,600 cm2) of solid-colored, fluorescent hunter orange on your head, chest and back except noted otherwise. Your solid-colored, fluorescent hunter orange must be visible 360o while carrying-in and carrying-out equipment (e.g., portable blinds). “Jump shooters” must wear at least a solid-colored, fluorescent hunter orange hat or cap while hunting. If you stop and stand, you may remove it.

12. We allow the taking of only Canada goose during the early and late resident Canada goose seasons.

13. We prohibit hunting of goose, duck, and dove during the early deer muzzleloader seasons that occur in October and all deer firearms seasons including the Junior Deer Hunt.

14. We require waterfowl hunters to use retrieving dogs while hunting duck and goose within 50 yards (45 m) of the following impounded waters: Bailey Bridge Marsh, Blue Heron Pond, Lake Allen, New Marsh, and Wood Duck Pond.

15. We require dogs to be under the immediate control of their owner at all times (see §26.21(b) of this chapter). Law enforcement officers may seize or dispatch dogs running loose or unattended (see §28.43 of this chapter).

B. Upland Game Hunting.

We allow hunting of turkey, gray squirrel, eastern cottontail rabbit, and woodchuck on the North Tract and turkey on the Central Tract in accordance with State regulations subject to the following conditions:

1. Conditions A1 through and A10 apply.

2. Hunters may only possess approved nontoxic shot while in the field (see §32.2(k)).

3. We prohibit hunting of upland game during the deer muzzleloader and firearms seasons, including the Junior Deer Hunt.

4. You must wear, in a visible manner and at all times, a minimum of 400 square inches (2,600 cm2) of solid-colored, fluorescent hunter orange on your head, chest, and back. Spring turkey hunters are exempt from wearing the hunter orange.

5. We allow the use of a bow and arrow for turkey hunting.

6. We require turkey hunters to use #4, #5, or #6 nontoxic shot or vertical bows.

7. We select turkey hunters by a computerized lottery for youth, disabled, mobility impaired, and general public hunts. We require documentation for disabled and mobility-impaired hunters.

8. We require each turkey hunter show proof they have attended a turkey clinic sponsored by the National Turkey Federation.

9. We require turkey hunters to pattern their weapons prior to hunting. Contact refuge headquarters for more information.

C. Big Game Hunting.

We allow hunting of white-tailed deer on the North, Central, and South Tracts in accordance with State regulations subject to the following conditions:

1. Conditions A1 through A10 apply.

2. Prior to issuing a hunting permit, we require you to pass a yearly proficiency test with each weapon used.

3. We only allow the use of a shotgun, muzzleloader, or bow and arrow according to Refuge Hunting Regulations.

i. We require muzzleloaders to be .40 caliber or larger with not less than 60 grains of black powder or a black powder equivalent.

ii. We prohibit the discharging of weapons after legal shooting hours, including the unloading of muzzleloaders.

4. Hunters must unload all weapons while on any roadway except areas identified in A9.

5. We require (when transporting or storing) longbows and recurve bows to be unstrung; and compound and crossbows must be locked in such a way to render them inoperable and/or cased, with no arrows nocked.

6. We prohibit possession of buckshot.

7. You must wear, in a visible manner and at all times, a minimum of 400 square inches (2,600 cm2) of solid-colored, fluorescent hunter orange on your head, chest, and back except noted otherwise. Your solid-colored, fluorescent hunter orange must be visible 360 degrees while carrying-in and carrying-out equipment (e.g., portable tree stands). Bow hunters must follow this requirement when walking from their vehicle to their hunting location and while tracking. We do not require bow hunters to wear the solid-colored, fluorescent hunter orange when positioned to hunt except during the North Tract Junior Deer Hunt and the late deer Muzzleloader Season when they must wear it at all times.

8. All bucks harvested must have a 15 inch (37.5 cm) minimum outside antler spread.

9. All deer harvested will have a jaw extracted at the HCS before leaving the refuge.

10. We allow the use of portable tree stands equipped with a full-body safety harness. You must wear the full-body safety harness while in the tree stand. The stand must be at least 10 feet (3 m) off the ground. You must remove tree stands from the refuge. You must use tree stands when hunting South and Central Tracts. We will make limited accommodations for disabled hunters for Central Tract lottery hunts.

11. We prohibit the use of dogs to hunt or track wounded deer.

12. If you wish to track wounded deer, beyond 1½ hours after legal sunset, you must gain consent from a refuge law enforcement officer. We prohibit tracking 2½ hours after legal sunset. You must make a reasonable effort to retrieve the wounded deer. This may include next-day tracking except Sundays and Federal holidays.

13. We prohibit deer drives or anyone taking part in any deer drive. We define a “deer drive” as an organized or planned effort to pursue, drive, chase or otherwise frighten or cause deer to move in the direction of any person or persons who are part of the organized or planned hunt and known to be waiting for the deer. We also prohibit organized deer drives without a standing hunter.

14. North Tract: We allow shotgun, muzzleloader, and bow hunting in accordance with the following regulations: Conditions C1 through C13 apply.

15. Central Tract:

i. Headquarters/MR Lottery Hunt: We only allow shotgun and bow hunting in accordance with the following regulations:

a. Conditions C1, C2, and C4 through C13 apply.

b. We select Central Tract shotgun and bow hunters by a computerized lottery. We will assign you a specific hunting location.

ii. Schafer Farm Hunt: We only allow bow hunting in accordance with the following regulations: Conditions C1, C2, and C4 through C13 apply.

18. South Tract: We allow shotgun, muzzleloader, and bow hunting in accordance with the following regulations:

i. Conditions C1 through C13 apply.

ii. You must access South Tract hunting areas A, B, and C off Springfield Road through the Old Beltsville Airport; and South Tract hunting area D from MD Rt. 197 through Gate #4. You must park in designated parking areas.

iii. We prohibit driving or parking along the entrance and exit roads, to and from the National Wildlife Visitor Center, and parking in the visitor center parking lot when checked in to hunt any area.

D. Sport Fishing.

We allow sport fishing in accordance with Maryland State hook and line fishing regulations subject to the following conditions:

1. We require all anglers, age 16 and older, to obtain a free refuge fishing permit as well as a Maryland State fishing license, which must be carried with them at all times while fishing. Organized groups may request a group permit. The group leader must carry a copy of the permit and stay with the group at all times while fishing.

2. We publish the Refuge Fishing Regulations, which includes the daily and yearly creel limits and fishing dates, in early January. We provide a copy of the regulations with your free refuge fishing permit, and we require you to know the specific fishing regulations.

3. Anglers must carry a copy of the refuge fishing permit and their Maryland State fishing license in the field.

4. Anglers must display a copy of the refuge fishing permit in the vehicle windshield.

5. We require anglers, age 17 or younger, to have a parent or guardian cosign to receive a fishing permit.

6. We require anglers, age 17 or younger, to be accompanied in the field by an adult possessing a fishing permit, age 21 or older, and they must maintain visual contact with each other within a 50 yard (45m) distance.

7. We prohibit the use or possession of lead sinkers.

8. We prohibit the use or possession of alcoholic beverages (see §27.81 of this chapter and §32.2(j)).

9. Anglers may take three youths, age 15 or younger, to fish under their permit and in their presence and control.

10. We allow the use of earthworms as the only source of live bait. We prohibit bloodworms, fish, or other animals or parts of animals to be used as bait.

11. We prohibit harvesting bait on the refuge.

12. Anglers must attend all fishing lines.

13. Anglers may take the following species: chain pickerel, catfish, golden shiner, eel, and sunfish (includes bluegill, black crappie, warmouth and pumpkinseed). Maryland State daily harvest limits apply unless otherwise noted.

14. We require all bluegill to be 6 inches (15 cm) or larger.

15. We allow take of one chain pickerel per day.

16. Anglers must catch and release all bass.

17. We prohibit fishing from all bridges except the downstream side of Bailey Bridge.

18. North Tract: We allow sport fishing in accordance with the following regulations:

i. Conditions D1 through D17 apply.

ii. We allow sport fishing at Lake Allen, Blue Heron Pond, Rieve's Pond, New Marsh, Cattail Pond, Bailey Bridge (downstream side) and Little Patuxent River (downstream only from Bailey's Bridge).

iii. We require a free North Tract refuge access permit that anglers must carry and possess at all times and must return to the North Tract Visitor Contact Station (VCS) at the end of each visit. If you are age 17 or younger, you must have a parent or guardian countersign to receive an access permit.

iv. Anglers may fish year-round at Lake Allen, Blue Heron Pond, Rieve's Pond, New Marsh, Cattail Pond, Bailey Bridge (downstream side) and the Little Patuxent River (downstream only from Bailey Bridge) except Monday through Saturday from September 1 through January 31 during the hunting season. We also reserve the right to close Lake Allen at any time.

v. We allow wading, for fishing purposes only, downstream from Bailey Bridge on the Little Patuxent River. We prohibit wading in all other bodies of water.

vi. We prohibit the use of any type of watercraft.08SER2

19. South Tract: We allow sport fishing in accordance with the following regulations:

i. Conditions D1 through D16 apply.

ii. Anglers must park their vehicles in the parking lot located behind Refuge Gate #8 off MD Rt. 197. Anglers may not access Cash Lake from the National Wildlife Visitor Center (NWVC).

iii. We allow sport fishing at the pier and designated shorelines at Cash Lake. See Refuge Fishing Regulations for areas opened to fishing. We post other areas with “No fishing beyond this point” signs.

iv. Anglers may fish from mid-June until mid-October, as posted.

v. We allow fishing between the hours of 6:00 a.m. and 8:00 p.m. June through August and between the hours of 7:00 a.m. and 6:30 p.m. September and October.

vi. Anglers may use watercraft for fishing in accordance with the Maryland State boating laws subject to the additional following conditions:

a. You may use car-top boats 14 feet (4.2 m) or less, and canoes.

b. You may only use electric motors, 4 HP or less.

c. We prohibit sailboats, kayaks, and inflatable boats.

d. Maryland State law requires personal floatation devices (PFDs).

vii. We prohibit boat trailers except by individuals possessing a refuge handicapped permit.

15. Amend §32.43 Mississippi by:

a. Adding paragraph A.12., revising paragraphs B.1. and C.1., and adding paragraph C.6. of Grand Bay National Wildlife Refuge;

b. Revising paragraph A.15. of Hillside National Wildlife Refuge;

c. Revising paragraphs A.15., C.5., and D.9. of Morgan Brake National Wildlife Refuge; and

d. Revising paragraphs A.17. and D.6. of Panther Swamp National Wildlife Refuge to read as follows:

§ 32.43 Mississippi.

* * * * *

Grand Bay National Wildlife Refuge

A. Migratory Game Bird Hunting. * * *

* * * * *

12. We prohibit the use of airboats, mudboats, motorized pirogues, and air-cooled propulsion engines on the refuge.

B. Upland Game Hunting. * * *

1. Conditions A4 through A7 and A9 through A12 apply.

* * * * *

C. Big Game Hunting. * * *

1. Conditions A4 through A7 and A9 through A12 apply.

* * * * *

6. We prohibit the use of dogs to hunt deer and feral hog.

* * * * *

Hillside National Wildlife Refuge

A. Migratory Game Bird Hunting. * * *

* * * * *

15. We allow ATVs only on designated trails (see §27.31 of this chapter) (see refuge brochure map).

* * * * *

Morgan Brake National Wildlife Refuge

A. Migratory Game Bird Hunting. * * *

* * * * *

15. We allow ATVs only on designated trails (see §27.31 of this chapter) (see refuge brochure map).

* * * * *

C. Big Game Hunting. * * *

* * * * *

5. Conditions A5 through A7, A14, and B6 apply.

* * * * *

D. Sport Fishing. * * *

* * * * *

9. Condition A14 applies.

* * * * *

Panther Swamp National Wildlife Refuge

A. Migratory Game Bird Hunting. * * *

* * * * *

17. We allow ATVs, beginning on the third Saturday in September through February 28, only on designated trails (see §27.31 of this chapter) (see refuge brochure map).

* * * * *

D. Sport Fishing. * * *

* * * * *

6. We allow ATVs for fishing access on designated gravel roads when we close such roads to vehicular traffic.

* * * * *

16. Amend §32.45 Montana by revising paragraphs A.1., A.10., adding paragraphs A.17. and A.18., and revising paragraph C.2. of Lee Metcalf National Wildlife Refuge to read as follows:

§ 32.45 Montana.

* * * * *

Lee Metcalf National Wildlife Refuge

A. Migratory Game Bird Hunting. * * *

1. Hunting Access: Hunters must enter and exit the hunt area through the access parking lot. Hunters must park at this access point and at the numbered parking space corresponding to a blind. Hunters must walk to the blind along mowed trails designated in the hunting leaflet. We open the access parking lot at 3:30 a.m. to hunters who intend to immediately hunt on the refuge. We prohibit wildlife observation, scouting, and loitering at the access point.

* * * * *

10. You must conduct all hunting from within the hunting blind.

* * * * *

17. Hunting blinds require the use of a minimum of six decoys with the exception of blinds #1, 2, 7, 14, and 15.

18. We will allow the use of a removable personal blind within the immediate mowed area around field blind #13.

* * * * *

C. Big Game Hunting. * * *

* * * * *

2. We will allow archery hunting in the Waterfowl Hunt Area in September except during the youth waterfowl hunt weekend. We will allow archery hunting on Mondays and Thursdays in the Waterfowl Hunting Area during waterfowl hunting season.

* * * * *

17. Amend §32.47 Nevada by:

a. Removing Stillwater Wildlife Management Area; and

b. Revising paragraph A.5. and adding paragraphs B.3. and B.4. of Stillwater National Wildlife Refuge to read as follows:

§ 32.47 Nevada.

* * * * *

Stillwater National Wildlife Refuge

A. Migratory Game Bird Hunting. * * *

* * * * *

5. We prohibit boating outside of the waterfowl and youth waterfowl hunting season except in Willow Lake where we allow nonmotorized boating all year.

* * * * *

B. Upland Game Hunting. * * *

* * * * *

3. We prohibit the use or possession of lead shot (see §32.2(k)).

4. We prohibit hunting after legal sunset.

* * * * *

18. Amend §32.48 New Hampshire by revising the introductory text of paragraph A. and revising paragraph A.5. of Silvio O. Conte National Fish and Wildlife Refuge to read as follows:

§ 32.48 New Hampshire.

* * * * *

Silvio O. Conte National Fish and Wildlife Refuge

A. Migratory Game Bird Hunting.

We allow hunting of duck, goose, common snipe, and American woodcock on the Pondicherry Division of the refuge in accordance with State regulations subject to the following conditions:

* * * * *

5. Conditions A4 and A5 apply.

* * * * *

19. Amend §32.49 New Jersey by revising the introductory text of paragraph C., revising paragraphs C.1. and C.2., and removing paragraphs C.3. through C.5. of Supawna Meadows National Wildlife Refuge to read as follows:

§ 32.49 New Jersey.

* * * * *

Supawna Meadows National Wildlife Refuge

* * * * *

C. Big Game Hunting.

We allow hunting of white-tailed deer on designated areas of the refuge in accordance with State regulations subject to the following conditions:

1. We allow only bow hunting on the refuge.

2. We require a State permit for the appropriate State Deer Management Zone.

* * * * *

20. Amend §32.50 New Mexico by revising paragraphs A.1., A.4., and A.5., adding paragraphs A.6. and A.7., and revising paragraphs B.2., B.3., C.1., and C.2. of Bitter Lake National Wildlife Refuge to read as follows:

§ 32.50 New Mexico.

* * * * *

Bitter Lake National Wildlife Refuge

A. Migratory Game Bird Hunting. * * *

1. On the North Tract (including Salt Creek Wilderness Area and the portion of the refuge located north of U.S. Highway 70) all hunting must be in accordance with State seasons and regulations. On the Middle Tract (the portion of the refuge located between U.S. Highway 70 and U.S. Highway 380), we restrict hunting to goose, duck, sandhill crane, and American coot (no dove):

i. In the designated public hunting area;

ii. In the southern portion of the Tract that never approaches closer than 100 yards (90 m) to the public auto tour route;

iii. In the southern portion of the Tract only, we limit hunting to Tuesdays, Thursdays, and Saturdays during the period when the State seasons for that area are open simultaneously for most of these species;

iv. All hunting must cease at 1 p.m. (local time) on each hunt day; and

v. On the South Tract (the portion of the refuge located south of U.S. Highway 380), we allow hunting only during Special hunts (youth hunters age 17 and younger and/or physically impaired) as per State seasons and regulations.

* * * * *

4. Hunters must directly attend all personal property at all times (see §27.93 of this chapter).

5. We allow unleashed hunting/retrieving dogs on the refuge when hunters are legally present in areas where we allow hunters, only if the dogs are under the immediate control of hunters at all times (see §26.21(b) of this chapter), and only to pursue species legally in season at that time.

6. We prohibit hunters and their dogs from entering closed areas for retrieval of game.

7. We do not require refuge or other special hunt permits other than those required by the State (e.g., sandhill crane permits).

B. Upland Game Hunting. * * *

* * * * *

2. Conditions A2 and A4 through A7 apply.

3. We prohibit the use of rifles, handguns, and archery equipment at any time on the refuge except when hunting deer and hogs.

C. Big Game Hunting. * * *

1. We restrict all hunting to the North Tract (including Salt Creek Wilderness Area and the portion of the refuge located north of U.S. highway 70) in accordance with State seasons and regulations with the specification that we only allow the take of feral hog (no bag limit) while legally hunting deer and only with the weapon legal for taking deer on that day.

2. Conditions A4 and A7 apply.

* * * * *

21. Amend §32.51 New York by:

a. Revising paragraphs A., C., and D. of Montezuma National Wildlife Refuge; and

b. Revising paragraph C. of Wertheim National Wildlife Refuge to read as follows:

§ 32.51 New York.

* * * * *

Montezuma National Wildlife Refuge

A. Migratory Game Bird Hunting.

We allow waterfowl hunting on designated areas of the refuge in accordance with State regulations subject to the following conditions:

1. We require daily refuge permits and reservations. You must possess and carry refuge permits while in the field and present them upon request to any law enforcement officer.

2. We allow hunting only on Tuesdays, Thursdays, and Saturdays during the established refuge season set within the State western zone season.

3. Except for opening day, we take telephone reservations from 8:30 a.m. to 9:00 a.m. on Tuesdays, Thursdays, and Saturdays for the next hunt day.

4. We take opening day reservations between 8:30 a.m. and 9:00 a.m. on a day set by the refuge manager or designee at least 1 week before the season opener.

5. The reservation telephone number is 315-568-4136.

6. All telephone reservations are on a first-come, first-served basis.

7. If you have a reservation for Tschache Pool, you may bring one companion; we will determine party limits for other areas annually.

8. You may request the parking area of your choice when making reservations.

9. Parking signs and blinds should not be moved except by refuge personnel.

10. All hunters with reservations and their hunting companions must check-in at the Route 89 Hunter Creek Station area at least 1 hour before legal shooting time or forfeit their reservation.

11. Hunters must set up in their chosen hunting spot before legal shooting time.

12. Forfeited reservations become available on a first-come, first-served basis to standby hunters at the Route 89 Hunter Check Station.

13. We require a fee of $10 per reservation. If you have a Golden Age or Access Passport, the fee is $5 per reservation.

14. In Tschache Pool, hunters must use motorless boats to hunt, and we limit hunters to one boat per reservation.

15. In Tschache Pool, you must not shoot from the dike or within 50 feet (15 m) of the dike or road, or from within 500 feet (150 m) of the observation tower. We do not limit hunting to specific blind sites.

16. We will announce selection procedures for hunting sites on other areas annually.

17. You may possess a maximum of 15 nontoxic shot shells while in the field (see §32.2(k)).

18. You must stop hunting at 12 p.m. (noon), and you must check out by 1 p.m.

19. We require proof of successful completion of the New York State Waterfowl Identification Course, the Montezuma Nonresident Waterfowl Identification Course, or a suitable nonresident State Waterfowl Identification Course to hunt the refuge; all hunters must show proof each time they hunt.

* * * * *

C. Big Game Hunting.

We allow hunting of white-tailed deer on designated areas of the refuge in accordance with State regulations subject to the following conditions:

1. We allow hunting of white-tailed deer only on designated areas of the refuge using archery, firearms (see §27.42 of this chapter), or muzzleloaders during established refuge seasons set within the general State white-tailed deer season.

2. We prohibit hunting on Sunday.

3. You must possess, carry, and present upon request to any law enforcement officer a valid daily hunt permit card. We will also require you to return the daily hunt permit card at the end of hunting or at the end of the day.

4. Daily hunt permits are available at the Route 89 Hunter Check Station on a first-come, first-served basis, issued by refuge personnel or available on a self-service basis; hunters must come to the Route 89 Hunter Check Station to obtain a permit each day they hunt.

5. We issue a maximum of 300 archery and 150 firearms hunt permit cards each day on a first-come, first-served basis.

6. Hunters must fill out Part A of the daily hunt permit card at check-in and leave it with refuge personnel or deposit it in the Part A box at the Route 89 Hunter Check Station.

7. Hunters must carry Part B of the daily hunt permit card while hunting the refuge.

8. Hunters must complete Part B and deposit it in the Part B box at the Route 89 Hunter Check Station by the end of the hunt day.

9. Successful hunters must bring their deer to the Route 89 Hunter Check Station on days designated by the refuge manager.

10. Firearms hunters must wear in a visible manner on the head, chest, and back a minimum of 400 square inches (2,600 cm2) of solid, blaze orange.

11. We only allow shotguns, muzzleloaders, and bows during the firearms season (see §27.42 of this chapter); successful harvest with a bow during firearms season requires use of a firearms season tag. We prohibit handguns.

12. You must have all guns unloaded (see §27.42 of this chapter) between legal sunset and legal sunrise.

13. You must disassemble, lock, or encase all bows after legal sunset and before legal sunrise.

14. We prohibit advance scouting of the refuge prior to hunting season.

15. We prohibit boats and canoes on refuge pools and hunting on the open-water portions of the refuge pools.

16. We prohibit ATVs (see §27.31(f) of this chapter).

17. Hunters may only use portable tree stands and must remove them (see §27.93 of this chapter) from the refuge each day.

18. We prohibit screw-in tree steps, nails, and any object used to puncture the bark of a tree; we do allow climbing tree stands that grip the tree (see §32.2(i)).

19. We allow firearms hunters to be on the refuge during the period that begins 1 hour before legal sunrise and ends 1 hour after legal sunset.

20. We allow archery hunters to be on the refuge during the period that begins 1 hour before legal sunrise (except for opening day) and ends 1 hour after legal sunset.

21. On opening day of both archery and firearms seasons, we allow hunters on the refuge during the period that begins 2 hours before legal sunrise and ends 1 hour after legal sunset.

22. We prohibit parking along the Wildlife Drive unless otherwise posted by refuge personnel.

D. Sport Fishing.

Anglers may access the New York State Barge Canal System Waters at only two sites on the refuge: The Seneca River Fishing Access Site and the May's Point Fishing Area. You may either bank fish or boat fish in accordance with State regulations.

* * * * *

Wertheim National Wildlife Refuge

* * * * *

C. Big Game Hunting.

We allow hunting of white-tailed deer within designated areas of the refuge in accordance with State regulations subject to the following conditions:

1. We allow archery and shotgun hunting of white-tailed deer within portions of the refuge during specific days between October 1 and January 31.

2. We require refuge permits. We limit the number of deer hunters permitted to hunt on the refuge. We will issue permits by random selection.

3. You must take the specified number of antlerless deer as noted in the refuge hunting regulations before taking an antlered deer.

4. You must have all applicable and valid hunting licenses, permits, stamps, and a photographic identification in your possession while hunting on the refuge.

5. You must limit driving to designated access roads and park only in designated areas. We prohibit use of motorized vehicles on the refuge to retrieve white-tailed deer.

6. You must display refuge parking permits face up on the vehicle dashboard while hunting.

7. We allow hunters to enter the refuge 1 hour before legal hunting hours, and they must leave the refuge no later than 1 hour after legal hunting hours.

8. We prohibit the use of dogs to hunt or pursue game. We prohibit driving deer by any means.

9. We prohibit the carrying of a loaded weapon or discharging of a firearm within the designated 500-foot (150 m) “No Hunt Buffer,” in vehicles, or in parking areas (see §27.42(b) of this chapter).

10. We prohibit shooting directly into the 500-foot (150 m) “No Hunt Buffer.”

11. We prohibit the killing or crippling of any deer without the hunter making reasonable effort to retrieve the deer and retain it in his or her custody.

12. If assigned to Unit 5, hunters must hunt from portable tree stands and must direct aim away from public roads and private dwellings.

13. We allow only shotgun shells loaded with slugs during the firearms season.

14. Hunters must wear a minimum of 400 square inches (2,600 cm2) of solid-orange clothing, visible on head, chest, and back during the firearms season. Camouflage orange does not qualify because it is not solid.

15. We prohibit construction or use of any type of structure while hunting. We prohibit driving nails, spikes, screws, or other metal objects into any tree or hunting from any tree into which a nail, spike, screw, or other object has been driven (see §32.2(i)).

16. We allow use of temporary or portable tree stands while hunting deer. You must clearly print your name and address on the stand. You must remove all stands or any blinds at the end of each hunt session (see §27.93 of this chapter).

17. You must report all serious accidents and injuries to refuge personnel as soon as possible and before leaving the refuge.

18. Failure to comply with Federal, State, or refuge regulations may lead to dismissal from the refuge and elimination of participation in future hunts.

19. Hunters must abide by all rules and regulations listed on the hunting permit.

20. We prohibit the use of any bait, salt, or enticement (see §32.2(h)).

21. A nonhunting adult possessing a valid New York State hunting license must accompany junior hunters (ages 14 and 15).

22. We prohibit the marking of any tree, trail, or other refuge feature with flagging, paint, reflective material, or any other substance.

23. You must use a safety harness and belt while hunting from a tree stand.

24. We allow scouting of hunting areas on the refuge only during designated times and days. We allow only permitted hunters to scout. We prohibit the use of dogs during scouting.

25. We prohibit the use of electronic calls during any hunting season.

26. We prohibit the trimming or cutting of branches larger than the diameter of a quarter.

* * * * *

22. Amend §32.53 North Dakota by:

a. Revising paragraphs B. and C. of Lostwood National Wildlife Refuge; and

b. Revising paragraph D.3. and adding paragraph D.14. of Upper Souris National Wildlife Refuge to read as follows:

§ 32.53 North Dakota.

* * * * *

Lostwood National Wildlife Refuge

* * * * *

B. Upland Game Hunting.

We allow hunting of sharp-tailed grouse and grey partridge on designated areas of the refuge in accordance with State regulations subject to the following conditions:

1. We prohibit hunting on the portion of the refuge south of Highway 50 during the State gun season.

2. We allow hunting only on the portion of the refuge north of Highway 50 beginning the day following the close of the State deer gun season through the end of the State season.

3. You may possess only approved nontoxic shot while in the field (see §32.2(k)).

4. We prohibit the use of horses during all hunting seasons.

C. Big Game Hunting.

We allow hunting of deer on designated areas of the refuge in accordance with State regulations subject to the following conditions:

1. The refuge gun, muzzleloader, and bow deer hunting seasons open and close according to State regulations.

2. We prohibit entry to the refuge before 12 p.m. (noon) on the first day of the archery, gun, or muzzleloader deer hunting season.

3. We will allow only preseason scouting in public use areas and hiking trails.

4. We allow only portable tree stands. You must remove all tree stands at the end of each day (see §§27.93 and 27.94 of this chapter).

5. Hunters may enter the refuge only on foot.

6. Condition B4 applies.

* * * * *

Upper Souris National Wildlife Refuge

* * * * *

D. Sport Fishing. * * *

* * * * *

3. We prohibit the use of bow, spear, or underwater spearing equipment to take fish during open-water periods.

* * * * *

14. We allow dark-house spear fishing from December 1 through the last day of February of each fishing year in conjunction with North Dakota Game and Fish Department regulations.

* * * * *

23. Amend §32.55 Oklahoma by revising paragraph A.1., adding paragraph A.10., and revising paragraphs B.1. and C.4. of Sequoyah National Wildlife Refuge to read as follows:

§ 32.55 Oklahoma.

* * * * *

Sequoyah National Wildlife Refuge

A. Migratory Game Bird Hunting. * * *

1. We require an annual refuge permit for all hunting. The hunter must possess and carry the signed permit while hunting. We require hunters to abide by all terms and conditions listed on the permit (see §26.43 of this chapter).

* * * * *

10. We prohibit hunters from using refuge boat ramps to access hunting areas outside the refuge boundary on days when we close the refuge for hunting certain species or for any species not hunted on the refuge.

B. Upland Game Hunting. * * *

1. Conditions A1 and A7 through A10 apply.

* * * * *

C. Big Game Hunting. * * *

* * * * *

4. Conditions A9 and A11 apply.

* * * * *

24. Amend §32.60 South Carolina by:

a. Revising Cape Romain National Wildlife Refuge;

b. Revising Santee National Wildlife Refuge; and

c. Revising paragraphs C.3. through C.6. of Savannah National Wildlife Refuge to read as follows:

§ 32.60 South Carolina.

* * * * *

Cape Romain National Wildlife Refuge

A. Migratory Game Bird Hunting.

We allow hunting of marsh hen/rail only on designated areas of the refuge in accordance with State regulations subject to the following conditions:

1. We require each hunter to carry at all times while hunting a signed, current refuge hunt permit and a government-issued picture ID. The hunt permit is invalid until signed by the hunter.

2. We prohibit hunting on Sundays.

3. You may possess only approved nontoxic shot while hunting on the refuge (see §32.2(k)).

4. We prohibit discharge of weapons for any purpose other than to take or attempt to take legal game during the established hunting season.

5. We allow firearms intended to take legal game only in the areas designated for hunting.

6. Each hunter under age 16 must remain within sight and normal voice contact of an adult age 21 or older. Youth hunters must have successfully completed a State-approved hunter education course.

7. We allow use of retrieving dogs only while hunting in designated hunting areas for marsh hen/rail. Otherwise we prohibit dogs on the refuge.

8. Hunters must unload and encase weapons while transporting them on the refuge (see §27.42 of this chapter).

9. We prohibit taking or attempting to take any wildlife from an area unless that area is officially opened for hunting/fishing.

B. Upland Game Hunting.

We allow hunting of raccoon on designated areas of the refuge in accordance with State regulations subject to the following conditions:

1. Conditions A1, A2, A4, A6, and A9 apply.

2. We allow hunting only on days designated annually by the refuge within the State season.

3. Hunters must enter and exit through the designated camping area to access any hunting areas on the refuge.

4. We prohibit crossbows, muzzleloaders, shotguns, rifles, pistols, and any other firearms or illegal means designed by the State to take while-tail deer during the designated refuge archery hunt.

5. The refuge designates daily limits for raccoon.

6. For all raccoons harvested, hunters must check-in the raccoon tail at the refuge check station.

7. We prohibit hunting within 100 feet (30 m) of the Walking Trail (interpretive foot trail) and Beach Road.

8. Each archery hunter must check-in at the camping site on Bulls Island before setting up camp or before starting to hunt. We require each hunter to record his or her name and address in the available register.

9. Hunters may camp in the designated camping areas on Bulls Island during the archery white-tailed deer hunts from 9 a.m. on the day preceding the hunt until 12 p.m. (noon) on the day following the hunt.

10. We restrict hunters to the camping area from 7 p.m. until 4:30 a.m.

11. We prohibit camping on the refuge except for designated archery hunters on Bulls Island and individuals obtaining a special use permit from the refuge manager.

12. We prohibit fires except designated campfires in designated areas during the archery hunt (see §27.95(a) of this chapter).

13. Except for boat motors being operated in salt water, we prohibit motorized equipment on the refuge islands or in refuge inholdings.

14. We prohibit private boats in the refuge boat basins at Garris Landing and Bulls Island. We clearly mark these areas with Closed Area signs.

15. We prohibit overnight parking at Garris Landing except for archery hunters during the designated refuge archery white-tailed deer season and individuals obtaining a special use permit from the refuge manager.

16. Hunters must hunt from a tree stand or the ground. We prohibit stalking, driving, corralling, or any other cooperative form of hunting.

C. Big Game Hunting.

We allow the hunting of white-tailed deer on designated areas of the refuge in accordance with State regulations subject to the following conditions:

1. Conditions A1, A2, A4, A6, A9, B2 through B4, and B7 through B16 apply.

2. The refuge designates daily limits for white-tail deer.

3. Hunters much check all white-tailed deer at the refuge check station prior to removal from Bulls Island.

D. Sport Fishing.

We allow the possession, taking, and transportation of: fish, crabs, shellfish, shrimp, and other saltwater species on designated areas of the refuge in accordance with State regulations subject to the following conditions:

1. Conditions A9 and B10 through B14 apply.

2. We prohibit fishing inside the refuge boat basins at Garris Landing and Bulls Island.

3. We prohibit cast nets on the pier at Garris Landing.

4. We prohibit fishing, crabbing, shell fishing, and the taking of other saltwater species on Bulls Island ponds and managed wetlands (Jacks Creek, Lower and Upper Summerhouse Ponds).

5. We close Marsh Island, White Banks, and Sandy Point to public entry from February 15 through September 15 to protect nesting birds. This closed area extends from the low mean water mark to the highest elevation on these islands.

6. We prohibit entering into any area “Closed to Public Entry” due to turtle/bird nesting areas.

7. All refuge islands are “Closed to Public Entry” or occupancy from 1 hour after legal sunset to 1 hour before legal sunrise, except during a scheduled refuge big game hunt.

8. We prohibit anglers or visitors taking, possessing, or transporting more than one 3-quart plastic bag of sea shells per person per day from the refuge.

9. We prohibit anglers or visitors taking, possessing, or transporting any sea shells containing living organisms from the refuge, except those shellfish allowed by the State according to a recreational or commercial saltwater fishing license and permit.

10. We prohibit the taking of sea shells from the refuge for commercial purposes or monetary gain.

11. We prohibit the commercial transport of passengers to any refuge island for any purpose without a Special Use Permit from the refuge manager.

12. We prohibit feeding or harassing porpoises in any manner.

13. We prohibit mooring or anchoring of boats more than 72 hours within the refuge boundary.

* * * * *

Santee National Wildlife Refuge

A. Migratory Game Bird Hunting.

We allow hunting of mourning dove on designated areas of the Cuddo Unit of the refuge in accordance with State regulations subject to the following conditions:

1. All hunters must possess and carry a signed refuge hunting permit and a government-issued picture ID. The hunt permit is invalid until signed by the hunter.

2. We require all hunters to sign in and out at the check station located at the Cuddo entrance gate and report all game taken.

3. We prohibit discharge of weapons (see §27.42 of this chapter) within, into, or across a “No Hunting Zone” or “Closed Area.” We prohibit entering or crossing a “No Hunting Zone” or “Closed Area” to access areas open to hunting. We require consent from refuge personnel to enter a “No Hunting Zone” or “Closed Area” for the purpose of tracking and/or retrieving legally taken game animals.

4. Each youth hunter (age 16 or younger) must remain within sight and normal voice contact and under the direct supervision of an adult age 21 or older with a valid license and applicable permit. Each adult may supervise no more than two youth hunters. Each youth hunter must possess and carry evidence of successful completion of a State-approved hunter education course.

5. We prohibit loaded firearms (see §27.42 of this chapter) within 100 feet (30 m) of maintained refuge roads or designated refuge foot trails that we indicate within the refuge hunt brochure. We prohibit discharge of any weapon on or across any part of the refuge road system or designated refuge foot trail system. We define a “loaded firearm” as a firearm with shells in the magazine or chamber, and for muzzleloaders, a firearm with the percussion cap seated in the chamber. We prohibit handguns on all refuge hunts.

6. Legal shooting hours for designated refuge dove hunts are in accordance with State law and the times the refuge is open for general public access.

7. We allow scouting for dove 1 week prior to the designated refuge hunting season. Anyone scouting may not have a firearm in their possession and may be on the refuge only during the times the refuge is open for general public access.

8. You may possess only approved nontoxic shot (see §32.2(k) while in the field if hunting with a shotgun or muzzleloader using shot as a delivery device to take mourning doves.

9. Hunters must possess shotguns with shot no larger than No. 5.

10. We allow use of dogs for the retrieving of mourning doves while hunting. The dog must wear a collar displaying the owner's name, address, and phone number.

11. We prohibit discharge of weapons for any purpose other than to take or attempt to take legal game animals during established hunting seasons.

12. We prohibit entering any area posted as “Closed” or “No Hunting Zone.” We prohibit hunting any species not listed in the introductory paragraphs A, B, or C on any unit.

B. Upland Game Hunting.

We allow hunting of raccoon and opossum on designated areas of the refuge in accordance with State regulations subject to the following conditions:

1. Conditions A1 through A5, A11, and A12 apply.

2. We allow hunting only on areas, days, and times designated annually by the refuge within the State season.

3. We require dogs for hunting raccoon and opossum. All dogs must wear a collar displaying the owner's name, address, and phone number.

4. You may possess only approved nontoxic shot (see §32.2(k)) while in the field if hunting with a shotgun using shot as a delivery device to take game.

5. Hunters may possess shotguns with shot no larger than No. 4 or .22 caliber rimfire rifles. We prohibit possession of buckshot or slugs. We prohibit handguns on all refuge hunts.

6. We prohibit crossbows.

C. Big Game Hunting.

We allow hunting of white-tailed deer on designated areas of the refuge in accordance with State regulations subject to the following conditions:

1. Conditions A1 through A5, A11, and A12 apply.

2. We allow hunting for white-tailed deer only as described in the refuge hunt brochure.

D. Sport Fishing.

We allow fishing on the refuge in accordance with State regulations subject to the following conditions:

1. We allow fishing year-round, 24 hours a day, except in areas posted as “Closed Areas” or in areas seasonally closed for migratory bird management in Cantey Bay, Black Bottom, Savannah Branch, and refuge ponds and impoundments.

2. We allow fishing only in Cantey Bay, Black Bottom, Savannah Branch, and refuge ponds and impoundments from March 1 through October 31.

3. We prohibit fishing or boating within 100 feet (30 m) of any nesting birds or bird rookeries within the refuge boundaries.

4. We allow fishing on the inland ponds only during the times the refuge units are open for general public access or as posted.

5. You must possess and carry a signed refuge fishing permit at all times while fishing on the refuge.

6. We prohibit the use of air-thrust boats, hovercraft, airboats, and personal watercraft.

Savannah National Wildlife Refuge

* * * * *

C. Big Game Hunting. * * *

* * * * *

3. We authorize bows only for deer/hog hunting during the archery hunt. We prohibit crossbows (see §27.43 of this chapter).

4. We allow only shotguns with slugs, muzzleloaders, and bows for deer and hog hunting throughout the designated hunt area. However, we allow centerfire rifles of .22 caliber or larger north of Interstate Highway 95 only. We prohibit handguns and crossbows (see §§27.42 and 27.43 of this chapter).

5. You may take five deer, no more than three antlerless and two antlered. There is no bag limit on feral hogs.

6. You must remove hunt stands daily (see §27.93 of this chapter).

* * * * *

25. Amend §32.62 Tennessee by:

a. Revising paragraphs A.1., B.1., removing paragraph B.2. and redesignating paragraphs B.3. through B.9. as paragraphs B.2. through B.8., and revising paragraph D.1. of Cross Creeks National Wildlife Refuge; and

b. Revising paragraph A.1., adding paragraph A.12., and revising paragraphs B.1., C.2., and D.4. of Tennessee National Wildlife Refuge to read as follows:

§ 32.62 Tennessee.

* * * * *

Cross Creeks National Wildlife Refuge

A. Migratory Game Bird Hunting. * * *

1. The refuge is open daily from ½ hour before legal sunrise to ½ hour after legal sunset, with the exception of legal hunting and/or fishing activities.

* * * * *

B. Upland Game Hunting. * * *

1. Conditions A1 and A2 apply.

* * * * *

D. Sport Fishing. * * *

1. We allow fishing on refuge pools and reservoirs from March 16 through November 14 from ½ hour before legal sunrise to ½ hour after legal sunset.

* * * * *

Tennessee National Wildlife Refuge

A. Migratory Game Bird Hunting. * * *

1. The refuge is open daily from ½ hour before legal sunrise to ½ hour after legal sunset, with the exception of legal hunting/fishing activities.

* * * * *

12. We restrict the Duck River Bottoms unit to a quota goose hunt only. You may only participate in the quota hunt with a special quota permit issued through random drawing. Information for permit application is available at the refuge headquarters.

B. Upland Game Hunting. * * *

1. Condition A1 applies.

* * * * *

C. Big Game Hunting. * * *

* * * * *

2. You may only participate in the refuge quota deer hunts with a special quota permit issued through random drawing. Information for permit applications is available at the refuge headquarters. You must possess and carry a valid refuge permit while hunting on the refuge.

D. Sport Fishing. * * *

* * * * *

4. We allow fishing on interior refuge impoundments from ½ hour before legal sunrise to ½ hour after legal sunset.

* * * * *

26. Amend §32.63 Texas by:

a. Revising paragraphs C.6. and C.7. of Aransas National Wildlife Refuge;

b. Revising the introductory text of paragraph A., revising paragraphs A.1., A.4., and A.6., revising the introductory text of paragraph B., revising paragraphs B.1., B.6., and B.8., and adding paragraphs B.9. and B.10. of Balcones Canyonlands National Wildlife Refuge;

c. Redesignating paragraphs A.1. through A.5. as paragraphs A.2. through A.6. and adding a new paragraph A.1. of Brazoria National Wildlife Refuge; and

d. Revising paragraph A.3. of San Bernard National Wildlife Refuge to read as follows:

§ 32.63 Texas.

* * * * *

Aransas National Wildlife Refuge

* * * * *

C. Big Game Hunting. * * *

* * * * *

6. We allow archery hunting within the deer season for the county on specified days listed in the refuge hunt brochure.

7. We allow firearm hunting within the deer season for the county on specified days listed in the refuge hunt brochure.

* * * * *

Balcones Canyonlands National Wildlife Refuge

A. Migratory Game Bird Hunting.

We allow hunting of mourning, white-wing, rock, and Eurasian-collared doves on designated areas of the refuge in accordance with State regulations subject to the following conditions:

1. We allow hunting on the refuge during limited periods of the State-designated hunting season. We publish these dates in the annual refuge hunting brochure.

* * * * *

4. We require all hunters to obtain and possess a refuge permit and pay a hunt fee.

* * * * *

6. All hunters must be age 12 or older. An adult age 21 or older must supervise hunters ages 12-17 (inclusive).

* * * * *

B. Upland Game Hunting.

We allow hunting of turkey on designated areas of the refuge in accordance with State regulations subject to the following conditions:

1. Conditions A1, A3, A4, A7, and A8 apply.

* * * * *

6. We annually establish bag limits for turkey and publish these bag limits in the annual hunt brochure.

* * * * *

8. We require that hunters check-in all harvested game at the refuge check station on the day of the hunt.

9. We allow use of portable hunting stands. They may be set up during scouting week, but must be removed when a hunter's permit expires (see §27.93 of this chapter). We prohibit hunters from driving nails, spikes, or other objects into trees or hunting from stands secured with objects driven into trees (see §27.61 of this chapter).

10. We prohibit hunting within 50 yards (45 m) of adjoining private property lines or from a road open to vehicular traffic and/or within 200 yards (180 m) of a building.

* * * * *

Brazoria National Wildlife Refuge

A. Migratory Game Bird Hunting. * * *

1. We require permits and payment of fees for the Otter Slough Permit Waterfowl Hunt. Hunters must abide by all terms and conditions set forth by the permit.

* * * * *

San Bernard National Wildlife Refuge

A. Migratory Game Bird Hunting. * * *

* * * * *

3. We require permits and payment of fees for the Sargent Permit Waterfowl Hunt and Light Goose Conservation Order Season Permit Hunt Area. Hunters must abide by all terms and conditions set by the permits.

* * * * *

27. Amend §32.66 Virginia by:

a. Revising paragraphs C. and D.1., D.5., D.6., D.7.iv., and D.7.v. of Back Bay National Wildlife Refuge;

b. Revising paragraph C.1.i. of Chincoteague National Wildlife Refuge;

c. Revising paragraph C. of Great Dismal Swamp National Wildlife Refuge;

d. Revising paragraph C. of James River National Wildlife Refuge;

e. Revising paragraph A. of Plum Tree Island National Wildlife Refuge;

f. Revising paragraph C. of Presquile National Wildlife Refuge; and

g. Revising paragraphs C. and D. of Rappahannock River Valley National Wildlife Refuge to read as follows:

§ 32.66 Virginia.

* * * * *

Back Bay National Wildlife Refuge

* * * * *

C. Big Game Hunting.

We allow hunting of white-tailed deer and feral hogs on designated areas of the refuge in accordance with State regulations subject to the following conditions:

1. The State determines hunting seasons annually, usually beginning October 1 and ending in early January. We conduct the deer and hog hunt on the barrier spit of the refuge for a minimum of 7 days in October. We will close the refuge for all other public uses on those days.

2. Hunters must present their Hunter Safety Education Certification and required licenses at check-in.

3. Hunters must register on each hunt day. We will issue a Special Use Hunting Permit, which hunters must sign and carry on their person while hunting.

4. The hunt lottery system (run through a contractor) may be accessed through Back Bay National Wildlife Refuge, Virginia Department of Conservation & Recreation and The Virginia Game and Inland Fisheries website. Selected hunters will receive a “Successful Hunter Selection Packet” from the contractor by mail.

5. All selected and standby applicants must enter the refuge between 4 a.m. and 5 a.m. on each hunt day. We may issue standby hunters permits to fill vacant slots by lottery. All hunters must check out at the Check Station no later than 6 p.m.

6. Hunters must sign in and out on each hunt day.

7. We allow only shotguns, 20-gauge or larger, loaded with buckshot (see §27.42 of this chapter). We prohibit possession of a loaded firearm on refuge roads and refuge Proclamation Waters. We prohibit possession of bows or crossbows.

8. We prohibit use of dogs.

9. We prohibit possession of alcoholic beverages (see §32.2(j)).

10. You must be at least age 18 to hunt without an accompanying, qualified adult. Youths between ages 12 and 18 may hunt only when accompanied by a licensed hunter who is age 21 or older.

11. Each hunter must visibly wear a minimum of 400 square inches (2,600 cm2) of solid-colored, blaze-orange material on his or her head, chest, and back. This is the equivalent of a hat and vest for each hunter.

12. Hunting Zone 5 is for use by nonambulatory hunters. A nonambulatory hunter is someone who can provide medical documentation from a doctor that he or she is unable to walk.

13. We allow scouting one week prior to the first day of the refuge hunt. Hunters may enter the hunt zones by foot or bicycle only. Scouts must wear 400 square inches (2,600 cm2) of visible blaze orange. We prohibit hunters carrying weapons while scouting (see §27.42(a) of this chapter). We require hunters to sign in and out on each day of scouting.

14. Hunters may go to Hunt Zone 1 (Long Island) only by hand-launched watercraft (canoe, punt, rowboat, etc.) from the canoe launch at refuge headquarters. Your boat must meet Coast Guard safety requirements. We prohibit use of boats on trailers.

15. A Safety Zone runs from the Check Station to north of the headquarters parking lot. We prohibit hunting or discharging of firearms within the Safety Zone. We prohibit retrieval of crippled game from a “No Hunting Area” or “Safety Zone” without the consent of the refuge employee on duty at the Check Station.

16. We prohibit use of tree stands.

17. We prohibit use of the “Hacking Tower” in Hunt Zone 4.

D. Sport Fishing. * * *

1. We close all areas within the hunting zones, as well as the oceanfront, to fishing, crabbing, and clamming during the annual refuge white-tailed deer and feral hog hunt.

* * * * *

5. Anglers may access the refuge for sport fishing, crabbing, and clamming from the refuge headquarters parking lot only by foot, bicycle, and nontrailered boats.

6. Anglers may surf fish, crab, and clam south of the refuge's beach access ramp.

7. * * *

iv. Anglers must catch and release smallmouth bass, largemouth bass, and pickerel. The daily creel limit for D Pool for other species is a maximum combination of any 10 fish.

v. Parking for nonambulatory visitors is available adjacent to the dock at D Pool. All other visitors must hike in or bicycle in.

Chincoteague National Wildlife Refuge

* * * * *

C. Big Game Hunting. * * *

1. General hunt information:

i. You must possess and carry a refuge permit. Hunting brochures containing hunting application procedures, seasons, bag limits, methods of hunting, maps depicting areas open to hunting, and the terms and conditions under which we issue hunting permits are available from the refuge administration office.

* * * * *

Great Dismal Swamp National Wildlife Refuge

* * * * *

C. Big Game Hunting.

We allow hunting of white-tailed deer and bear on designated areas of the refuge in accordance with State regulations subject to the following conditions:

1. You must possess and carry a refuge permit and compass.

2. We allow shotguns, 20 gauge or larger, loaded with buckshot or rifled slugs, and bows and arrows. For the bear hunt in Virginia, we allow only shotguns, 20 gauge or larger, with slugs.

3. We prohibit dogs.

4. You must wear 400 square inches (2,600 cm2) of solid-colored, hunter-orange clothing or material in a visible manner during firearms big game season.

5. You must sign in and out each hunt day.

6. We prohibit loaded firearms (see §27.42 of this chapter) (ammunition in the chamber, magazine, or clip), or nocked bow and arrow within 50 feet (15 m) of a refuge road, including roads closed to vehicles.

7. You must dismantle or encase your guns, bows and arrows, and crossbows when transporting them in a vehicle.

8. We prohibit shooting from, onto, or across refuge roads, including roads closed to vehicles.

9. You must check-in all harvested bears at the refuge official check station.

10. We prohibit baiting or hunting over bait (see §32.2(h)).

11. We prohibit possession of alcoholic beverages (see §32.2(j)).

* * * * *

James River National Wildlife Refuge

* * * * *

C. Big Game Hunting.

We allow hunting of white-tailed deer on designated areas of the refuge in accordance with State regulations subject to the following conditions:

1. We require firearm hunters to purchase a refuge hunt permit at the Refuge Hunter Check Station on the morning of each hunt on a first-come, first-served basis. The permit must be in the possession of the hunter while on refuge property.

2. We require archery hunters to purchase a refuge hunt permit by mail, by the designated application deadline. Archery hunters must contact the Charles City Office at (804) 829-9020 to apply for a permit. You must possess the permit while on refuge property.

3. You must follow all conditions of the hunting permit.

4. We allow the use of shotguns (20-gauge or larger, loaded with buckshot only), muzzleloaders, archery, and crossbows on designated refuge hunt days.

5. We allow the take of two deer of either sex per day.

6. We prohibit dogs.

7. We allow only portable tree stands that hunters must remove at the end of each hunt day.

8. During firearm seasons, hunters must wear in a visible manner on head, chest, and back a minimum of 400 square inches (2,600 cm2) of solid-colored, hunter-orange clothing or material.

9. During archery only season, hunters must wear in a visible manner a solid-colored, hunter-orange hat or cap while moving to and from their stand.

10. We require that firearm hunters remain within 25 feet (7.5 m) of their assigned stand unless tracking or retrieving a wounded deer.

11. Hunters may retrieve wounded deer from closed areas with prior consent from a refuge employee.

12. Each hunters must unload all weapons while on the refuge, except when at his or her assigned stand (see §27.42(b) of this chapter).

13. We prohibit the discharge of firearm or archery equipment across or within refuge roads, including roads closed to vehicles.

14. You must be at least age 18 to hunt without an accompanying, qualified adult. Youth hunters between ages 12 and 17 may hunt only when accompanied by an adult age 21 or older who must also possess and carry a valid hunting license. The minimum age for hunters is 12.

* * * * *

Plum Tree Island National Wildlife Refuge

A. Migratory Game Bird Hunting.

We allow hunting of waterfowl, gallinule, and coot on designated areas of the refuge in accordance with State regulations subject to the following conditions:

1. You must possess and carry a signed Special Use Hunting Permit while hunting migratory game birds on the refuge. We open only the Cow Island area of the refuge to migratory game bird hunting. We close all other areas of the refuge to all public entry. You may obtain permit application information by contacting the Charles City Office at (804) 829-9020.

2. We will determine hunting locations, dates, and times by lottery. We will designate them on hunting permits.

3. We prohibit jump-shooting by foot or boat. We allow hunting from a blind only as determined by hunting permit.

4. You must follow all conditions of your hunt permit.

5. We prohibit any activity that disturbs the bottom, including landing boats, anchoring, driving posts, etc., within the refuge boundary and within the U.S. Army Corps of Engineers-designated Danger Zone around Plum Tree Island.

* * * * *

Presquile National Wildlife Refuge

* * * * *

C. Big Game Hunting.

We allow hunting of white-tailed deer on designated areas of the refuge in accordance with State regulations subject to the following conditions:

1. We require you to purchase a refuge hunt permit. You may obtain permit information by contacting the Charles City Office at (804) 829-9020. You must possess the permit while on refuge property.

2. You must follow all conditions of the hunting permit.

3. We allow the use of shotguns (20-gauge or larger, loaded with buckshot or rifled slugs).

4. We allow the take of two deer of either sex per day.

5. We prohibit dogs.

6. We allow only portable tree stands that hunters must remove at the end of each hunt day.

7. We require hunters to wear in a conspicuous manner on head, chest, and back a minimum of 400 square inches (2,600 cm2) of solid-colored, hunter-orange clothing or material.

8. You must be at least age 18 to hunt without an accompanying, qualified adult. Youth hunters between ages 12 and 17 may hunt only when accompanied by an adult age 21 or older who must also possess and carry a valid hunting license. The minimum age for hunters is 12.

* * * * *

Rappahannock River Valley National Wildlife Refuge

* * * * *

C. Big Game Hunting.

We allow hunting of white-tailed deer on designated areas of the refuge in accordance with State regulations subject to the following conditions:

1. We require hunters to purchase a refuge hunt permit. You may obtain permit application information by contacting Refuge Headquarters at (804) 333-1470. You must possess the permit while on refuge property.

2. You must follow all conditions of the hunting permit.

3. We allow shotgun, muzzleloader, and archery hunting on designated refuge hunt days.

4. We allow the take of two deer per day. We will determine the sex of the deer on the hunting permit.

5. We prohibit dogs.

6. We allow only portable tree stands that hunters must remove at the end of each hunt day.

7. We require firearm hunters to wear in a conspicuous manner on head, chest, and back a minimum of 400 square inches (2,600 cm2) of solid-colored, hunter-orange clothing or material.

8. During archery-only season, hunters must wear in a visible manner a solid-colored, hunter-orange hat or cap while moving to and from their stand.

9. We prohibit the possession of loaded firearms and nocked arrows while on refuge roads (see §27.42(b) of this chapter).

10. Hunters must unload all weapons while traveling between hunting sites (see §27.42(b) of this chapter).

11. We prohibit the discharge of firearm or archery equipment across or within refuge roads, including roads closed to vehicles.

12. Hunters may retrieve wounded deer from closed areas only with prior consent from a refuge employee.

13. You must be at least age 18 to hunt without an accompanying, qualified adult. Youth hunters between ages 12 and 17 may hunt only when accompanied by an adult age 21 or older who must also possess and carry a valid hunting license. The minimum age for hunters is 12.

D. Sport Fishing.

We allow fishing on designated areas of Wilna Pond in Richmond County in accordance with State regulations subject to the following conditions:

1. We allow fishing access from legal sunrise to legal sunset.

2. We allow fishing from the Wilna Pond pier, banks of the dam, and watercraft. We prohibit fishing from the aluminum catwalk.

3. All Virginia boating laws apply on Wilna Pond, including personal floatation device (PFD) requirements and State motor boat registration for vessels under power.

4. During the period when we open the Wilna Tract for deer hunting, we will close it to all other uses, including fishing.

5. We prohibit fishing by any means other than by use of one or more attended poles with hook and line attached.

6. We prohibit the use of lead sinkers.

7. We require catch and release fishing only for largemouth bass. You may take other finfish species in accordance with State regulations.

8. We prohibit the take of any reptile, amphibian, or invertebrate species for use as bait or for any other purpose.

9. We prohibit the use of live minnows as bait.

10. We prohibit the use of boats propelled by gasoline motors, sail, or mechanically operated paddle wheel. We allow only car-top boats, and we prohibit trailers.

11. We will give prescheduled environmental education field trips priority over other uses, including sport fishing, on the Wilna Pond pier at all times.

* * * * *

28. Amend §32.67 Washington by adding paragraphs A.3. through A.17. of Ridgefield National Wildlife Refuge to read as follows:

§ 32.67 Washington.

* * * * *

Ridgefield National Wildlife Refuge

A. Migratory Game Bird Hunting. * * *

* * * * *

3. We prohibit hunting of dusky Canada goose. The State defines dusky Canada goose as a dark goose, as determined by a Munsell color chart 10 YR, 5 or less, with a culmen length of 40 to 50 millimeters (1.6 to 2 inches). Hunting of dusky goose will result in invalidation of the refuge hunting permit and loss of refuge hunting privileges for the remainder of the waterfowl hunting season.

4. We allow hunting on designated portions of the River “S” Unit on Tuesdays, Thursdays, and Saturdays, excluding Federal holidays, during the regular State waterfowl hunting season.

5. Prior to entering the hunt area, you must pay a recreation user fee, obtain a blind assignment, and obtain a check-out card. You must carry the check-out card while hunting as proof of user fee payment.

6. We allow access to the refuge check station 2 hours before legal shooting time. We require hunters to depart the refuge no later than 1 hour after legal shooting time.

7. We allow entry to the hunt area during hunt days for the purpose of hunting only. We prohibit entry to the hunt area for scouting, sight-seeing, or other purposes.

8. We allow hunting only from designated permanent blinds. We prohibit all hunting outside the designated blinds, including hunting from temporary blinds or jump shooting.

9. We allow a maximum of three persons per hunting blind.

10. We prohibit additional hunters to join a hunt party after the party has checked in.

11. You may possess only approved nontoxic shotshells (see §32.2(k)) in quantities of 25 or less per day.

12. You must unload all firearms except when hunting at the designated blind or retrieving crippled birds.

13. Hunters must leash all dogs except when hunting at the designated blind (see §26.21(b) of this chapter).

14. Hunters must complete an accurate check-out card and submit it to the check station before leaving the refuge.

15. We require all hunters switching blinds to first report to the refuge check station, complete a check-out card for the blind being vacated, and obtain a new check-out card for the new blind.

16. We reserve Blind 1A for exclusive use by hunters with permanent disabilities who possess a valid State Disabled Hunter Permit and who qualify under WAC 232-12-282. Blind 1A may also be occupied by nonhunters who are assisting the disabled hunters.

17. We allow vehicles only on designated routes of travel and require hunters to park in designated parking areas (see §27.31 of this chapter). We prohibit off-road vehicle travel, and all use of ATVs (see §27.31(f) of this chapter).

* * * * *

29. Revise §32.68 West Virginia by revising paragraph A.1., revising the introductory text of paragraph C., revising paragraph C.2., and adding paragraph D.4. of Ohio River Islands National Wildlife Refuge to read as follows:

§ 32.68 West Virginia.

* * * * *

Ohio River Islands National Wildlife Refuge

A. Migratory Game Bird Hunting. * * *

1. We require each hunter to possess and carry a refuge hunting permit, State hunting license, and valid driver's license (or other photo identification card) at all times when hunting on the refuge. The refuge hunting permit is free, and you may obtain it at the refuge headquarters.

* * * * *

C. Big Game Hunting.

We allow archery hunting of white-tailed deer on designated areas of the refuge (Pennsylvania: Phillis Island, Georgetown Island; West Virginia: Paden Island, Captina Island, Captina Mainland, Fish Creek Island, Williamson Island, Witten Towhead, Wells Island, Mill Creek Island, Grandview Island, Grape/Bat Island, zoned area of Middle Island, Broadback Island, Buckley Island, Buckley Mainland, Muskingum Island, Neal Island, Buffington Island, Letart Island; and Kentucky: Manchester 1 Island, Manchester 2 Island) in accordance with State regulations subject to the following conditions:

* * * * *

2. We prohibit the use or possession of rifles, pistols, or shotguns for the hunting of white-tailed deer, except during special management hunts where we allow firearms. Contact the refuge for special management hunt information.

* * * * *

D. Sport Fishing. * * *

* * * * *

4. We prohibit trotlines (setlines) and turtle lines.

Dated: December 18, 2008.
Lyle Laverty
Assistant Secretary for Fish and Wildlife and Parks

[FR Doc. E9-287 Filed 1-12-09; 8:45 am]

BILLING CODE 4310-55-S